ENVIRONMENTAL PROTECTION AGENCY

40 CFR Part 63

[FRL-7207-8]

RIN 2060-A174

National Emission Standards for Hazardous Air Pollutants: Engine Test Cells/Stands

AGENCY: Environmental Protection Agency (EPA).

ACTION: Proposed rule.

SUMMARY: This action proposes national emission standards for hazardous air pollutants (NESHAP) for engine test cells/stands. We have identified engine test cells/stands as major sources of hazardous air pollutants (HAP) such as toluene, benzene, mixed xylenes, and 1,3-butadiene. These proposed NESHAP will implement section 112(d) of the Clean Air Act (CAA) which requires all major sources of HAP to meet emission standards reflecting the application of the maximum achievable control technology (MACT). These proposed standards will protect public health by reducing exposure to air pollution.

DATES: Comments. Submit comments on or before July 15, 2002.

Public Hearing. If anyone contacts us requesting to speak at a public hearing by June 3, 2002, we will hold a public hearing on June 13, 2002.

ADDRESSES: Comments. By U.S. Postal Service, send comments (in duplicate if possible) to: Air and Radiation Docket and Information Center (6102), Attention Docket Number A-98-29, U.S. EPA, 1200 Pennsylvania Avenue, NW, Washington, DC 20460. In person or by courier, deliver comments (in duplicate if possible) to: Air and Radiation Docket and Information Center (6102), Attention Docket Number A-98-29, U.S. EPA, 401 M Street, SW, Washington, DC 20460. We request that a separate copy also be sent to the contact person listed below (see FOR FURTHER INFORMATION CONTACT).

Public Hearing. If a public hearing is held, it will be held at 10 a.m. in our Office of Administration Auditorium, Research Triangle Park, North Carolina, or at an alternate site nearby.

Docket. Docket No. A-98-29 contains supporting information used in developing the standards. The docket is located at the U.S. Environmental Protection Agency, 401 M Street, SW, Washington, DC 20460 in room M-1500, Waterside Mall (ground floor), and may be inspected from 8:30 a.m. to 5:30 p.m., Monday through Friday, excluding legal holidays.

FOR FURTHER INFORMATION CONTACT: Mr. Jaime Pagan, Combustion Group, Emission Standards Division (MD-13), U.S. EPA, Research Triangle Park, North Carolina 27711; telephone number (919) 541-5340; facsimile number (919) 541-0942; electronic mail (e-mail) address “pagan.jaime@epa.gov.”

SUPPLEMENTARY INFORMATION: Comments. Comments and data may be submitted by e-mail to: a-and-r-docket@epa.gov. Electronic comments must be submitted as an ASCII file to avoid the use of special characters and encryption problems or on disks in WordPerfect® version 5.1, 6.1, or 8 file format. All comments and data submitted in electronic form must note the docket number: A-98-29. No confidential business information (CBI) should be submitted by e-mail. Electronic comments may be filed online at many Federal Depository Libraries.

Commenters wishing to submit proprietary information for consideration must clearly distinguish such information from other comments and clearly label it as CBI. Send submissions containing such proprietary information directly to the following address, and not to the public docket, to ensure that proprietary information is not inadvertently placed in the docket: Attention: Mr. Jaime Pagan, c/o OAQPS Document Control Officer, U.S. EPA, 411 W. Chapel Hill Street, Room 740B, Durham NC 27701. We will disclose information identified as CBI only to the extent allowed by the procedures set forth in 40 CFR part 2. If no claim of confidentiality accompanies a submission when we receive it, the information may be made available to the public without further notice to the commenter.

Public Hearing. Persons interested in presenting oral testimony or inquiring as to whether a hearing is to be held should contact Mrs. Kelly Hayes, Combustion Group, Emission Standards Division (MD-13), U.S. EPA, Research Triangle Park, North Carolina 27711, (919) 541-5578 at least 2 days in advance of the potential date of the public hearing. Persons interested in attending the public hearing should also call Mrs. Kelly Hayes to verify the time, date, and location of the hearing. The public hearing will provide interested parties the opportunity to present data, views, or arguments concerning these proposed emission standards.

Docket. The docket is an organized and complete file of all the information we considered in the development of this proposed rule. The docket is a dynamic file because material is added throughout the rulemaking process. The docketing system is intended to allow members of the public and industries involved to readily identify and locate documents so that they can effectively participate in the rulemaking process. Along with the proposed and promulgated standards and their preambles, the contents of the docket (except for interagency review materials) will serve as the record in the case of judicial review. (See section 307(d)(7)(A) of the CAA.) Materials related to this proposed rule are available for review in the docket or copies may be mailed on request from the Air Docket by calling (202) 260-7548. A reasonable fee may be charged for copying docket materials.

World Wide Web (WWW). In addition to being available in the docket, an electronic copy of this proposed rule will also be available on the WWW through the Technology Transfer Network (TTN). Following signature, a copy of the proposed rule will be posted on the TTN's policy and guidance page for newly proposed or promulgated rules at http://www.epa.gov/ttn/oarpg. The TTN provides information and technology exchange in various areas of air pollution control. If more information regarding the TTN is needed, call the TTN HELP line at (919) 541-5384.

A list of combustion related rules is available on the Combustion Group Website on the TTN at http://www.epa.gov/ttn/uatw/combust/list.html. You may obtain background information, technical documents, and a docket index on these combustion related rules.

Regulated Entities. Subcategories and entities potentially regulated by this action include those listed in Table 1 of this preamble. In general, engine test cells/stands are covered under the Standard Industrial Classification (SIC) and North American Industrial Classification System (NAICS) codes listed in Table 1 of this preamble. However, cells/stands classified under other SIC or NAICS codes may be subject to the proposed standards if they meet the applicability criteria. Not all cells/stands classified under the SIC and NAICS codes in Table 1 of this preamble will be subject to the proposed standards because some of the classifications cover products outside the scope of the proposed NESHAP for engine test cells/stands.

Table 1.—Subcategories Potentially Regulated by This Standard
Test cells/stands used for testing | SIC codes | NAICS codes | Examples of regulated entities
Internal Combustion Engines with rated power of 25 horsepower (hp) (19 kilowatts (kW)) or more | 3531, 3519, 3523, 3559, 3599, 3621, 3711, 3714, 4226, 4512, 5541, 7538, 7539, 8299, 8711, 8731, 8734, 8741 | 333120, 333618, 333111, 333319, 335312, 336111, 336120, 336112, 336992, 336312, 336350, 481111, 811111, 811118, 611692, 54171, 541380 | Test cells/stands used for testing internal combustion engines with rated power of 25 hp (19 kW) or more.
Internal Combustion Engines with rated power of less than 25 hp (19 kW) | 3519, 3621, 3524, 8734 | 333618, 336399, 335312, 332212, 333112, 541380 | Test cells/stands used for testing internal combustion engines with rated power of less than 25 hp (19 kW).
Combustion Turbine Engines | 3511, 3566, 3721, 3724, 4512, 4581, 7699, 9661 | 333611, 333612, 336411, 336412, 481111, 488190, 811310, 811411, 92711 | Test cells/stands used for testing combustion turbine engines.
Rocket Engines | 3724, 3761, 3764, 9661, 9711 | 336412, 336414, 336415, 54171, 92711, 92811 | Test cells/stands used for testing rocket engines.

This table is not intended to be exhaustive, but rather provides a guide for readers regarding entities likely to be regulated by this action. To determine whether your engine test cell/stand is regulated by this action, you should examine the applicability criteria in § 63.9285 of the proposed rule. If you have any questions regarding the applicability of this action to a particular entity, consult the person listed in the preceding FOR FURTHER INFORMATION CONTACT section.

Outline. The information presented in this preamble is organized as follows:

I. Background

A. What is the source of authority for development of NESHAP?

B. What criteria did we use in the development of NESHAP?

C. What are the health effects associated with HAP from engine test cells/stands?

II. Summary of the Proposed Rule

A. Am I subject to this proposed rule?

B. What source categories and subcategories are affected by this proposed rule?

C. What are the primary sources of HAP emissions and what are the emissions?

D. What are the emission limitations?

E. What are the initial compliance requirements?

F. What are the continuous compliance provisions?

G. What monitoring and testing methods are available to measure low concentrations of CO?

H. What are the notification, recordkeeping and reporting requirements?

III. Rationale for Selecting the Proposed Standards

A. How did we select the source category and any subcategories?

B. What about engine test cells/stands located at area sources?

C. What is the affected source?

D. How did we determine the basis and level of the proposed emission limitations?

E. How did we select the format of the standard?

F. How did we select the initial compliance requirements?

G. How did we select the continuous compliance requirements?

H. How did we select the monitoring and testing methods?

I. How did we select the notification, recordkeeping and reporting requirements?

IV. Summary of Environmental, Energy and Economic Impacts

A. What are the air quality impacts?

B. What are the cost impacts?

C. What are the economic impacts?

D. What are the non-air health, environmental and energy impacts?

V. Solicitation of Comments and Public Participation

VI. Administrative Requirements

A. Executive Order 12866, Regulatory Planning and Review

B. Executive Order 13132, Federalism

C. Executive Order 13175, Consultation and Coordination with Indian Tribal Governments

D. Executive Order 13045, Protection of Children from Environmental Health Risks and Safety Risks

E. Executive Order 13211, Actions Concerning Regulations that Significantly Affect Energy Supply, Distribution, or Use

F. Unfunded Mandates Reform Act of 1995

G. Regulatory Flexibility Act (RFA), as Amended by the Small Business Regulatory Enforcement Fairness Act of 1996 (SBREFA), 5 U.S.C. 601 et seq.

H. Paperwork Reduction Act

I. National Technology Transfer and Advancement Act of 1995

I. Background

A. What Is the Source of Authority for Development of NESHAP?

Section 112 of the CAA requires us to list categories and subcategories of major sources and area sources of HAP and to establish NESHAP for the listed source categories and subcategories. Engine test facilities were listed as a source category under the fuel combustion industry group, and rocket engine test firing was listed as a source category under the miscellaneous processes industry group in the Federal Register on July 16, 1992 (57 FR 31576). Today, we are combining these two source categories for regulatory purposes under the fuel combustion industry group and renaming the source category as engine test cells/stands. The next revision to the source category list under section 112 which is published in the Federal Register will reflect this change. Major sources of HAP are those that have the potential to emit greater than 10 tons/yr of any one HAP or 25 tons/yr of any combination of HAP.

B. What Criteria Did We Use in the Development of NESHAP?

Section 112 of the CAA requires that we establish NESHAP for the control of HAP from both new and existing major sources. The CAA requires the NESHAP to reflect the maximum degree of reduction in emissions of HAP that is achievable. This level of control is commonly referred to as the MACT.

The MACT floor is the minimum control level allowed for NESHAP and is defined under section 112(d)(3) of the CAA. In essence, the MACT floor ensures that the standard is set at a level that assures that all major sources achieve the level of control at least as stringent as that already achieved by the better controlled and lower-emitting sources in each source category or subcategory. For new sources, the MACT standards cannot be less stringent than the emission control that is achieved in practice by the best controlled similar source. The MACT standards for existing sources can be less stringent than standards for new sources, but they cannot be less stringent than the average emission limitation achieved by the best performing 12 percent of existing sources in the category or subcategory (or the best performing 5 sources for categories or subcategories with fewer than 30 sources).

In developing MACT, we also consider control options that are more stringent than the floor. We may establish standards more stringent than the floor based on the consideration of cost of achieving the emissions reductions, any non-air quality health and environmental impacts, and energy requirements.

C. What Are the Health Effects Associated With HAP From Engine Test Cells/Stands?

Emission data collected during development of the proposed NESHAP show that several HAP are emitted from engine test cells/stands. These HAP emissions are formed during combustion or result from HAP compounds contained in the fuel burned. Numerous HAP are emitted from combustion in engine test cells/stands; examples include toluene, benzene, mixed xylenes, and 1,3-butadiene.

The health effect of primary concern for toluene is dysfunction of the central nervous system (CNS). Toluene vapor also causes narcosis. Controlled exposure of human subjects produced mild fatigue, weakness, confusion, lacrimation, and paresthesia; at higher exposure levels there were also euphoria, headache, dizziness, dilated pupils, and nausea. After effects included nervousness, muscular fatigue, and insomnia persisting for several days. Acute exposure may cause irritation of the eyes, respiratory tract, and skin. It may also cause fatigue, weakness, confusion, headache, and drowsiness. Very high concentrations may cause unconsciousness and death.

Benzene is a known human carcinogen. The health effects of benzene include nerve inflammation, CNS depression, and cardiac sensitization. Chronic exposure to benzene can cause fatigue, nervousness, irritability, blurred vision, and labored breathing and has produced anorexia and irreversible injury to the blood-forming organs; effects include aplastic anemia and leukemia. Acute exposure can cause dizziness, euphoria, giddiness, headache, nausea, staggering gait, weakness, drowsiness, respiratory irritation, pulmonary edema, pneumonia, gastrointestinal irritation, convulsions, and paralysis. Benzene can also cause irritation to the skin, eyes, and mucous membranes.

Acute inhalation exposure to mixed xylenes in humans results in irritation of the nose and throat, gastrointestinal effects such as nausea, vomiting, and gastric irritation, mild transient eye irritation, and neurological effects. Chronic inhalation exposure of humans to mixed xylenes results primarily in CNS effects, such as headache, dizziness, fatigue, tremors and incoordination. Other effects noted include labored breathing and impaired pulmonary function, increased heart palpitation, severe chest pain and an abnormal electrocardiogram, and possible effects on blood and kidneys.

Acute exposure to 1,3-butadiene by inhalation in humans results in irritation of the eyes, nasal passages, throat, and lungs, and causes neurological effects such as blurred vision, fatigue, headache, and vertigo. Epidemiological studies have reported a possible association between 1,3-butadiene exposure and cardiovascular diseases. The Department of Health and Human Services has determined that 1,3-butadiene may reasonably be anticipated to be a carcinogen. This is based on animal studies that found increases in a variety of tumor types from exposure to 1,3-butadiene. Studies on workers are inconclusive because the workers were exposed to other chemicals in addition to 1,3-butadiene.

II. Summary of the Proposed Rule

A. Am I Subject to This Proposed Rule?

This proposed rule applies to you if you own or operate an engine test cell/stand which is located at a major source of HAP emissions. An engine test cell/stand is any apparatus used for testing uninstalled stationary or uninstalled mobile (motive) engines. A major source of HAP emissions is a plant site that emits or has the potential to emit any single HAP at a rate of 10 tons (9.07 megagrams) or more per year or any combination of HAP at a rate of 25 tons (22.68 megagrams) or more per year.

Each new or reconstructed engine test cell/stand used for testing internal combustion engines with a rated power of 25 hp (19 kW) or more which is located at a major source of HAP emissions must comply with the requirements in this proposed rule. New or reconstructed test cells/stands used for testing internal combustion engines with a rated power of less than 25 hp (19 kW) are not required to comply with the emission limitation in this proposed rule, but are required to submit an Initial Notification upon startup of the test cells/stands.

New or reconstructed test cells/stands used for testing combustion turbine engines or new or reconstructed test cells/stands used for testing rocket engines are not required to comply with the emission limitation or the recordkeeping or reporting requirements in this proposed rule.

Existing engine test cells/stands that are located at major sources of HAP emissions are not required to comply with the emission limitation or the recordkeeping or reporting requirements in this proposed rule.

This proposed rule also does not apply to engine test cells/stands that are located at area sources of HAP emissions. An area source is any source that is not a major source of HAP emissions.

B. What Source Categories and Subcategories Are Affected by This Proposed Rule?

This proposed rule covers four subcategories of engine test cells/stands located at major source facilities: (1) Cells/stands used for testing internal combustion engines with rated power of 25 hp (19 kW) or more, (2) cells/stands used for testing internal combustion engines with rated power of less than 25 hp, (3) cells/stands used for testing combustion turbine engines, and (4) cells/stands used for testing rocket engines. The rated power criteria for distinguishing between the two internal combustion engine subcategories is based on the largest engine (in terms of rated power) that is tested in the test cell/stand.

C. What Are the Primary Sources of HAP Emissions and What Are the Emissions?

The sources of emissions are the exhaust gases from combustion of fuels in the engines being tested in the test cells/stands. Some of the HAP present in the exhaust gases from engine test cells/stands are toluene, benzene, mixed xylenes, and 1,3-butadiene.

D. What Are the Emission Limitations?

As the owner or operator of a new or reconstructed test cell/stand used in whole or in part for testing internal combustion engines with rated power of 25 hp (19 kW) or more and located at a major source of HAP emissions, you must comply with one of the following two emission limitations by [3 YEARS FROM PUBLICATION OF THE FINAL RULE IN THE Federal Register] (or upon startup if you start up your engine test cell/stand after [3 YEARS FROM PUBLICATION OF THE FINAL RULE IN THE Federal Register]: (1) Reduce CO emissions in the exhaust from the new or reconstructed engine test cell/stand to 5 parts per million by volume dry basis (ppmvd) or less, at 15 percent oxygen (O2) content; or (2) reduce CO emissions in the exhaust from the new or reconstructed engine test cell/stand by 99.9 percent or more. Existing test cells/stands used in whole or in part for testing internal combustion engines with rated power of 25 hp (19 kW) or more and located at a major source of HAP emissions are not required to comply with the emission limitations.

Finally, as mentioned earlier, new or reconstructed test cells/stands used for testing internal combustion engines with a rated power of less than 25 hp (19 kW), new or reconstructed test cells/stands used for testing combustion turbine engines, and new or reconstructed test cells/stands used for testing rocket engines are not required to comply with either emission limitation. In addition, neither existing test cells/stands located at major sources of HAP emissions nor new, reconstructed, or existing test cells/stands located at area sources of HAP emissions are required to comply with the emission limitations.

E. What Are the Initial Compliance Requirements?

Your initial compliance requirements are different depending on whether you demonstrate compliance with the outlet CO concentration emission limitation or the percent CO reduction emission limitation. If you choose to comply with the outlet CO concentration emission limitation, you must install a CEMS to measure CO and O2 at the outlet of the test cell/stand or emission control device. To demonstrate initial compliance, you must conduct an initial performance evaluation using Performance Specifications (PS) 3 and PS4A of 40 CFR part 60, appendix B. This initial performance evaluation demonstrates that your CEMS is working properly. You must demonstrate that the outlet concentration of CO emissions from the test cell/stand or emission control device is 5 ppmvd or less, corrected to 15 percent O2 content, using the first 4-hour rolling average after a successful performance evaluation.

If you comply with the percent reduction emission limitation, you must install two CEMS to measure CO and O2 simultaneously at the inlet and outlet of the emission control device. You must conduct an initial performance evaluation using PS3 and PS4A of 40 CFR part 60, appendix B. The initial performance evaluation demonstrates that your CEMS are working properly. You must demonstrate that the reduction in CO emissions is at least 99.9 percent using the first 4-hour rolling average after a successful performance evaluation. Your inlet and outlet measurements must be on a dry basis and corrected to 15 percent O2 content.

F. What Are the Continuous Compliance Provisions?

Several general continuous compliance requirements apply to engine test cells/stands required to comply with the applicable emission limitation. You are required to comply with the applicable emission limitation at all times, including startup, shutdown, and malfunction of your engine test cell/stand. You must operate and maintain your air pollution control equipment and monitoring equipment according to good air pollution control practices at all times, including startup, shutdown, and malfunction. You must conduct monitoring at all times that the engine test cell/stand is in operation except during periods of malfunction of the monitoring equipment or necessary repairs and quality assurance or control activities, such as calibration drift checks.

To demonstrate continuous compliance with the outlet CO concentration emission limitation, you must calibrate and operate your CEMS according to the requirements in 40 CFR 63.8. You must continuously monitor and record the CO and O2 concentrations at the outlet of the test cell/stand or emission control device and calculate the CO emission concentration for each hour. Then, the hourly CO emission concentrations for each hour of the 4-hour compliance period are averaged together. The outlet CO emission concentration must be 5 ppmvd or less, corrected to 15 percent O2 content, based on the 4-hour rolling average, averaged every hour.

To demonstrate continuous compliance with the percent reduction emission limitation, you must calibrate and operate your CEMS according to the requirements in 40 CFR 63.8. You must continuously monitor and record the CO and O2 concentration before and after the emission control device and calculate the percent reduction in CO emissions hourly. The reduction in CO emissions must be 99.9 percent or more, based on a rolling 4-hour average, averaged every hour.

For both emission limitations, you must also follow Procedure 1 of 40 CFR part 60, appendix F, to verify that the CEMS is working properly over time.

G. What Monitoring and Testing Methods Are Available to Measure Low Concentrations of CO?

Continuous emission monitoring systems are available which can measure CO emissions accurately at the low concentrations found in the exhaust stream of an engine test cell/stand following an emission control device. Our performance specification for CO CEMS (PS4A) of 40 CFR part 60, appendix A, however, has not been updated recently and does not reflect the performance capabilities of newer systems. We are currently undertaking a review of PS4A of 40 CFR part 60, appendix A for CO CEMS and, in conjunction with this effort, we solicit comments on the performance capabilities of CO CEMS and their ability to measure accurately the low concentrations of CO experienced in the exhaust of an engine test cell/stand following an emission control device.

H. What Are the Notification, Recordkeeping and Reporting Requirements?

You must submit all of the applicable notifications as listed in the NESHAP General Provisions (40 CFR part 63, subpart A), including an initial notification, notification of performance evaluation, and a notification of compliance status for each engine test cell/stand required to comply with the emission limitations.

You must submit an initial notification for each new or reconstructed test cell/stand located at a major source of HAP emissions used for testing internal combustion engines with a rated power of less than 25 hp (19 kW).

You must record all of the data necessary to determine if you are in compliance with the applicable emission limitation. Your records must be in a form suitable and readily available for review. You must also keep each record for 5 years following the date of each occurrence, measurement, maintenance, report, or record. Records must remain on site for at least 2 years and then can be maintained off site for the remaining 3 years.

You must submit a compliance report semiannually for each engine test cell/stand required to comply with the applicable emission limitation. This report must contain the company name and address, a statement by a responsible official that the report is accurate, a statement of compliance, or documentation of any deviation from the requirements of this proposed rule during the reporting period.

III. Rationale for Selecting the Proposed Standards

A. How Did We Select the Source Category and Any Subcategories?

Engine test cells/stands can be major sources of HAP emissions and, as a result, we listed them as a major source category for regulatory development under section 112 of the CAA. Section 112 of the CAA allows us to establish subcategories within a source category for the purpose of regulation. Consequently, we evaluated several criteria associated with engine test cells/stands which might serve as potential subcategories.

We identified four subcategories of engine test cells/stands located at major source facilities: (1) Test cells/stands used for testing internal combustion engines with a rated power of 25 hp (19 kW) or more, (2) test cells/stands used for testing internal combustion engines with a rated power of less than 25 hp (19 kW), (3) test cells/stands used for testing combustion turbine engines, and (4) test cells/stands used for testing rocket engines.

Internal combustion engines, which can be classified as reciprocating or rotary, convert thermal energy into mechanical energy. In an internal combustion engine, a combustible fuel-air mixture is intermittently ignited and combusted in a confined space. The force exerted by the expanding gases from this combustion is used to turn a shaft and provide mechanical power.

An internal combustion engine intakes a mixture of fuel and air, the mixture is ignited and combusted, and the combustion gases are exhausted from the engine. This cycle of intake, ignition/combustion, and exhaust is repeated over and over.

The cyclical nature of the combustion process in an internal combustion engine is quite different from the combustion processes in combustion turbine and rocket engines, where the combustion process is more continuous in nature. Therefore, test cells/stands used for testing internal combustion engines are considered a separate subcategory.

Internal combustion engines are used for a wide range of applications, including motor vehicles (automobiles and motorcycles), marine, heavy-duty diesel (trucks and buses), locomotive, and a wide variety of nonroad equipment (agriculture, construction, general industrial, lawn and garden, utility, material handling, electric power generation, and along gas and oil pipelines). Internal combustion engines range in size from a rated power of less than one hp to more than 15,000 hp.

Engines with a rated power of less than 25 hp (19 kW) generally include those used in handheld equipment (chainsaws, string trimmers, and blowers) and lawn and garden equipment. Engines with a rated power of 25 hp (19 kW) or more, on the other hand, generally include those used in automobiles, trucks, motorcycles, all-terrain vehicles, forklifts, generators, compressors, snowmobiles, airport ground-service equipment, marine engines, heavy-duty construction equipment, electric power generation, etc. While not perfect, a rated power of 25 hp (19 kW) generally serves to distinguish between smaller internal combustion engines, which tend to be used in handheld equipment, and larger internal combustion engines, which tend to be used in non-handheld equipment. In addition, internal combustion engines with a rated power of less than 25 hp (19 kW) generally use gasoline as the primary fuel, whereas larger internal combustion engines can use a wide variety of fuels such as gasoline, diesel fuel, natural gas, liquified petroleum gas, sewage (digester) gas, or landfill gases.

These factors suggest that internal combustion engines with a rated power of 25 hp (19 kW) or more should be considered a separate subcategory from internal combustion engines with a rated power of less than 25 hp (19 kW). Indeed, the advance notice of rulemaking for Nonroad Engines and Highway Motorcycles (65 FR 76796, December 7, 2000) and the Nonroad Handheld Spark-Ignition Engines rulemaking (65 FR 24267, April 25, 2000), used a rated power criteria of 25 hp (19 kW) to distinguish between larger engines and smaller engines. Thus, a rated power of 25 hp (19 kW) provides an effective way of dividing internal combustion engines into two subcategories which recognizes the significant differences between larger and smaller engines.

Consequently, test cells/stands used for testing internal combustion engines with a rated power of 25 hp (19 kW) or more and test cells/stands used for testing internal combustion engines with a rated power of less than 25 hp (19 kW) are considered two separate subcategories of test cells/stands used for testing internal combustion engines.

In addition to these two subcategories of engine test cells/stands, we identified test cells/stands used for testing combustion turbine engines as a third subcategory. Combustion turbine engines are fuel-fired devices in which a continuous stream of hot combustion gases passes through and turns a turbine rotor that produces shaft power. Depending on whether or not the heat can be utilized, the hot exhaust gases are either emitted directly to the atmosphere or passed through a heat recovery device which extracts excess heat from the exhaust gases. Applications for these types of engines include aircraft (including turbines, turboprops, turbofans, turbojets, and propfans), other military applications (tanks and ships), auxiliary power units, power and electric generation, pumping gas or other fluids (e.g., pipelines), and pneumatic machinery.

In general, combustion turbine engines have much higher power ratings (e.g., in the range of 500 hp to 240,000 hp or 373 kW to 178,968 kW) and require much larger volumes of air to operate than internal combustion engines. As a result, the volumes of exhaust from test cells/stands used for testing combustion turbine engines are substantially greater than those from test cells/stands used for testing internal combustion engines. A typical jet engine combustion turbine, for example, with a rated power of 4,600 hp (3,500 kW) requires air flows of approximately 125,000 dry standard cubic feet per minute (dscfm), and a large power generation combustion turbine engine with a rated power of 200,000 hp (150 megawatts (MW)) can require air flows of as much as 2 million dscfm, compared to a typical airflow of 500 dscfm for an automobile engine. Also, most combustion turbine engines burn natural gas or jet fuel, while, as mentioned above, the larger internal combustion engines can burn a wide variety of fuels, and the smaller internal combustion engines generally burn gasoline. In addition, separate test cells/stands are used for testing internal combustion engines and combustion turbine engines. Consequently, test cells/stands used for testing combustion turbine engines are considered a separate subcategory.

Lastly, we identified test cells/stands used for testing rocket engines as a fourth subcategory. Rocket engines are used to launch or propel rockets and missiles through the air or into space. The working fluid expelled from a rocket-propelled vehicle is usually a hot, burning gas resulting from the combustion of chemical propellants. The hot reaction-product gases are ejected at a high velocity to impart momentum to the rocket vehicle system. Propellants are of several different types, classified according to their chemical and physical properties and the rocket engine type. Liquid propellants are either expelled from the tanks by high pressure gases or are fed by pumps into a thrust chamber, where they react or burn. Solid propellants look like masses of soft plastic and burn smoothly on the exposed surfaces when ignited.

Not only are the fuels used in rocket engines quite different from other engine subcategories, but the volumetric energy release associated with these fuels are orders of magnitude higher than those used in either combustion turbine engines or internal combustion engines. This produces much greater temperatures and pressures in the combustion chambers and releases a much greater volume of exhaust. Consequently, test cells/stands used for testing rocket engines are considered a separate subcategory.

B. What About Engine Test Cells/Stands Located at Area Sources?

This proposed rule does not apply to engine test cells/stands located at area sources of HAP emissions. In developing our Urban Air Toxics Strategy (64 FR 38705, July 19, 1999), we identified area sources we believe warrant regulation to protect the environment and the public health and to satisfy the statutory requirements in section 112 of the CAA pertaining to area sources. Engine test cells/stands located at area sources were not included on that list and as a result, this proposed rule does not apply to engine test cells/stands located at area sources.

C. What Is the Affected Source?

This proposed rule applies to each affected source, which is defined as any existing, new, or reconstructed engine test cell/stand used for testing uninstalled stationary or uninstalled mobile (motive) engines that is located at a major source of HAP emissions.

D. How Did We Determine the Basis and Level of the Proposed Emission Limitations?

To determine the basis and level of the proposed emission limitations, we relied primarily on two sources: a MACT database and HAP emissions test reports. The MACT database is a summary of the information collected through an information collection request (ICR) for engine test cells/stands located at major and synthetic minor sources of HAP emissions. The HAP emissions test reports were collected from engine test facilities.

As established in section 112 of the CAA, MACT standards must be no less stringent than the MACT floor, which for existing sources is the average emission limitation achieved by the best performing 12 percent of existing sources. For new sources, the MACT floor is defined as the emission control that is achieved in practice by the best controlled similar source.

1. Test Cells/Stands Used for Testing Internal Combustion Engines of 25 hp (19 kW) or More

To determine MACT for test cells/stands used for testing internal combustion engines with a rated power of 25 hp (19 kW) or more, we used data from the MACT database. The database contains information on approximately 1,093 test cells/stands used for testing internal combustion engines with a rated power of 25 hp (19 kW) or more from major source and synthetic minor facilities. Since this number includes 1,055 test cells/stands from major source facilities and we estimate the total number of test cells/stands used for testing internal combustion engines with a rated power of 25 hp (19 kW) or more located at major source facilities to be about 1,995, we estimate that the MACT database represents approximately 52 percent of test cells/stands used for testing internal combustion engines with a rated power of 25 hp (19 kW) or more located at major source facilities in the United States. We consider the information contained in the MACT database to be representative of all test cells/stands used for testing internal combustion engines with a rated power of 25 hp (19 kW) or more located at major source facilities.

Existing Sources. We examined the MACT database for information on the use of various emission control methods to reduce HAP emissions. First, we examined the use of control technology. Oxidation emission control devices, such as thermal and catalytic oxidizers, have been shown to reduce HAP emissions from test cells/stands used for testing internal combustion engines with a rated power of 25 hp (19 kW) or more. These oxidation emission control devices have been installed to reduce CO emissions, but they also serve to reduce HAP emissions. Only 5 percent of existing test cells/stands used for testing internal combustion engines with a rated power of 25 hp (19 kW) or more located at major source facilities, however, are equipped with oxidation emission control devices.

Another approach we considered to identify a MACT floor was to review State regulations and permits. We could find no State regulations which limit HAP emissions from engine test cells/stands. Similarly, we found no State permits which limit HAP emissions from engine test cells/stands. Therefore, we concluded that State regulations or permits could not be used to identify a MACT floor.

We also considered whether the use of good operating practices and work practice standards might identify a MACT floor. There are no references, however, to “good operating practices” or “work practice standards” in the MACT database and a review of the general operation of engine test cells/stands failed to identify any good operating practices which might reduce HAP emissions. As a result, we concluded that neither good operating practices nor work practice standards can be used to identify a MACT floor for engine test cells/stands.

In addition to considering whether the use of add-on emission control technologies, State regulations or permits, or good operating practices might identify a MACT floor, we also considered whether other alternatives, such as the use of a specific fuel which might result in lower HAP emissions (e.g., switching from diesel fuel to gasoline) might identify a MACT floor. The purpose of engine testing, however, is to simulate the operation of a specific type of engine in a certain environment. This may be to confirm that the engine was assembled correctly and will function as intended. In other cases, engine testing may be conducted to measure or test the durability or performance of an engine, a new component within an engine, or a new engine design, all within the context of research and development.

The fuel burned in the engine during the test is an integral part of the test itself. One could not test the performance and durability of a new diesel engine design by burning gasoline in the engine, for example, nor could one test the performance and durability of a new gasoline engine design by burning diesel fuel in the engine. Use of a specific fuel to reduce HAP emissions, therefore, is not a viable emission control alternative for engine testing; indeed, such an alternative would defeat the very purpose of engine testing. For this reason, we concluded that use of a specific fuel cannot be used to identify a MACT floor for engine test cells/stands.

Consequently, the average of the best performing 12 percent of existing sources is no reduction in HAP emissions. As a result, we concluded that the MACT floor for existing test cells/stands used for testing internal combustion engines with a rated power of 25 hp (19 kW) or more located at major sources is no reduction in HAP emissions.

To determine MACT for existing test cells/stands used for testing internal combustion engines with a rated power of 25 hp (19 kW) or more located at major source facilities, we evaluated one regulatory option more stringent than the MACT floor. This regulatory option was the use of oxidation emission control devices. We also reconsidered the alternatives mentioned above, such as reviewing State permits and regulations, good operating practices and work practice standards, and using different fuels (also referred to as fuel switching). Again, we concluded that they are not viable options for MACT.

We considered the costs, the reduction in HAP emissions, and the incremental cost per ton of HAP reduced associated with the use of oxidation emission control devices. Those analyses are shown in a memorandum in Docket A-98-29, titled “Control Costs.” In addition, we considered the non-air quality health and environmental impacts and energy requirements associated with this regulatory option, such as potential water pollution and solid waste disposal impacts and the increased energy consumption. Although we considered the non-air quality health and environmental impacts and energy requirements negligible, we concluded that costs associated with this regulatory option were unreasonable in light of the small reductions in HAP emissions that would result.

We were unable to identify any other feasible regulatory options. Thus, we concluded that MACT for existing sources is the MACT floor. Consequently, we concluded that MACT for existing test cells/stands used for testing internal combustion engines with a rated power of 25 hp (19 kW) or more located at major source facilities is no reduction in HAP emissions.

New Sources. To identify the MACT floor for new test cells/stands used for testing internal combustion engines with a rated power of 25 hp (19 kW) or more located at major source facilities, we examined the MACT database and the emission test reports. As mentioned earlier, about 5 percent of existing test cells/stands used for testing internal combustion engines with a rated power of 25 hp (19 kW) or more currently use oxidation emission control devices.

We also considered whether the alternatives mentioned above, such as reviewing State permits and regulations, good operating practices and work practice standards, and using different fuels, which we considered to identify a MACT floor for existing test cells/stands, might identify a MACT floor for new engine test cells/stands. However, we concluded that just as none of those alternatives could be used to identify a MACT floor for existing engine test cells/stands, neither could they be used to identify a MACT floor for new engine test cells/stands.

Therefore, we concluded that the HAP emission limitation associated with the use of oxidation emission control devices is the MACT floor for new test cells/stands used for testing internal combustion engines with a rated power of 25 hp (19 kW) or more located at major source facilities.

To determine MACT for new test cells/stands used for testing internal combustion engines with a rated power of 25 hp (19 kW) or more, we considered options more stringent than the MACT floor, such as good operating practices and work practice standards, fuel switching, and the review of State permits and regulations to determine if other methods of control were being used. We are unaware of any option, including the alternatives just mentioned, which could reduce HAP emissions from a test cell/stand used for testing internal combustion engines with a rated power of 25 hp (19 kW) or more beyond that obtained through the use of an oxidation emission control device.

Consequently, we concluded that MACT for new sources is the MACT floor. As a result, MACT for new test cells/stands used for testing internal combustion engines with a rated power of 25 hp (19 kW) or more is the HAP emission level associated with the use of oxidation emission control devices.

After establishing this basis for MACT, we determined the achievable emission limitation based on the data available from HAP emission test reports of the performance of oxidation emission control devices operating on engine test cells/stands. We examined the emission control efficiencies achieved by oxidation emission control devices and concluded that CO emission reductions are a good surrogate for HAP emissions reductions. In addition, we concluded that oxidation emission control devices can reduce CO emissions to 5 ppmvd or less, corrected to 15 percent O2 content, while achieving a CO reduction efficiency of 99.9 percent or more. Thus, we are proposing the following MACT emission limitation for test cells/stands used for testing internal combustion engines with a rated power of 25 hp (19 kW) or more: an outlet CO emissions concentration of 5 ppmvd or less, corrected to 15 percent O2 content; or a reduction in CO emissions of 99.9 percent or more.

2. Test Cells/Stands Used for Testing Internal Combustion Engines of Less Than 25 hp (19 kW)

To determine MACT for test cells/stands used for testing internal combustion engines with a rated power of less than 25 hp (19 kW), we used data from the MACT database. The database contains information on 307 test cells/stands used exclusively for testing internal combustion engines with a rated power of less than 25 hp (19 kW) from major source and synthetic minor source facilities. Since this number includes 219 test cells/stands from major source facilities, and we estimate the number of test cells/stands used for testing internal combustion engines with a rated power of less than 25 hp (19 kW) located at major source facilities to be about 403, we estimate this database represents about 54 percent of test cells/stands used for testing internal combustion engines with a rated power of less than 25 hp (19 kW) located at major source facilities in the United States. We consider the information contained in the MACT database to be representative of all test cells/stands used for testing internal combustion engines with a rated power of less than 25 hp (19 kW) located at major source facilities.

Existing Sources. We examined the MACT database for information on the use of various control methods to reduce HAP emissions. First, we examined the use of control technology. No existing test cells/stands used for testing internal combustion engines with a rated power of less than 25 hp (19 kW) located at major source facilities are equipped with emission control technologies.

Another approach we considered to identify a MACT floor was to review State regulations and permits. We could find no State regulations which limit HAP emissions from engine test cells/stands. Similarly, we found no State permits which limit HAP emissions from engine test cells/stands. Therefore, we concluded that State regulations and permits could not be used to identify a MACT floor.

We also considered whether the use of good operating practices and work practice standards might identify a MACT floor. There are no references, however, to “good operating practices” or “work practice standards” in the MACT database, and a review of the general operation of engine test cells/stands failed to identify any good operating practices which might reduce HAP emissions. As a result, we concluded that neither good operating practices nor work practice standards can be used to identify a MACT floor for engine test cells/stands.

In addition to considering whether the use of add-on emission control technologies, State regulations and permits, or good operating practices might identify a MACT floor, we also considered whether other alternatives, such as the use of a specific fuel which might result in lower HAP emissions (e.g., switching from diesel fuel to gasoline) might identify a MACT floor. The purpose of engine testing, however, is to simulate the operation of a specific type of engine in a certain environment, which could be to confirm that the engine was assembled correctly and will function as intended. In other cases, engine testing may be conducted to measure or test the durability or performance of an engine, a new component within an engine, or a new engine design, all within the context of research and development.

The fuel burned in the engine during the test is an integral part of the test itself. One could not test the performance and durability of a new diesel engine design by burning gasoline in the engine, for example, nor could one test the performance and durability of a new gasoline engine design by burning diesel fuel in the engine. Use of a specific fuel to reduce HAP emissions, therefore, is not a viable emission control alternative for engine testing; indeed, such an alternative would defeat the very purpose of engine testing. For that reason, we concluded that use of a specific fuel cannot be used to identify a MACT floor for engine test cells/stands.

Consequently, the average of the best performing 12 percent of existing sources is no reduction in HAP emissions. As a result, we concluded that the MACT floor for existing test cells/stands used for testing internal combustion engines with a rated power of less than 25 hp (19 kW) located at major source facilities is no reduction in HAP emissions.

To determine MACT for existing test cells/stands used for testing internal combustion engines with a rated power of less than 25 hp (19 kW) located at major source facilities, we evaluated regulatory options more stringent than the MACT floor. We considered the use of oxidation emission control devices as an emission control technology which could serve as the basis for MACT for existing sources. We also reconsidered alternatives, such as good operating practices and work practice standards, fuel switching, and the review of State permits and regulations, and again concluded they are not viable options for MACT. We considered the costs, the reduction in HAP emissions, and the incremental cost per ton of HAP reduced for this regulatory option. Those analyses are shown in a memorandum in Docket A-98-29, titled “Control Costs.” In addition, we considered the non-air quality health and environmental impacts and energy requirements associated with this regulatory option, such as potential water pollution and solid waste disposal impacts and the increased energy consumption. Although we considered the non-air quality health and environmental impacts and energy requirements negligible, we concluded that costs associated with this regulatory option were unreasonable in light of the small reductions in HAP emissions that would result.

We were unable to identify any other feasible regulatory options. Thus, we concluded that MACT for existing sources is the MACT floor. Consequently, we concluded that MACT for existing test cells/stands used for testing internal combustion engines with a rated power of less than 25 hp (19 kW) located at major source facilities is no reduction in HAP emissions.

New Sources. To identify the MACT floor for new test cells/stands used for testing internal combustion engines with a rated power of less than 25 hp (19 kW) located at major source facilities, we also examined the MACT database. As mentioned earlier, no existing test cells/stands used for testing internal combustion engines with a rated power of less than 25 hp (19 kW) currently use emission control devices.

In addition to considering whether the use of add-on emission control technologies, such as oxidation emission control systems, might identify a MACT floor, we also considered whether any of the alternatives outlined above (e.g., good operating practices and work practice standards, fuel switching, and the review of State permits and regulations), which we considered to identify a MACT floor for existing engine test cells/stands used for testing internal combustion engines with a rated power of less than 25 hp (19 kW), might identify a MACT floor for new engine test cells/stands used for testing internal combustion engines with a rated power of less than 25 hp (19 kW). Again, we concluded that none of the alternatives could be used to identify a MACT floor for existing engine test cells/stands used for testing internal combustion engines with a rated power of less than 25 hp (19 kW).

Therefore, we concluded that the MACT floor for new test cells/stands used for testing internal combustion engines with a rated power of less than 25 hp (19 kW) located at major source facilities is no reduction in HAP emissions.

To determine MACT for new test cells/stands used for testing internal combustion engines with a rated power of less than 25 hp (19 kW), we evaluated regulatory options more stringent than the MACT floor. We considered the use of oxidation emission control devices as an emission control technology which could serve as the basis for MACT for new sources. We also reconsidered the alternatives mentioned above (e.g., good operating practices and work practice standards, fuel switching, and the review of State permits and regulations), which we considered for identifying a MACT floor, but for the reasons also discussed above, we concluded they are not viable options for MACT. We considered the costs, the reduction in HAP emissions, and the incremental cost per ton of HAP reduced associated with the option of adding oxidation emission control devices. In addition, we considered the non-air quality health and environmental impacts and energy requirements associated with this regulatory option, such as potential water pollution and solid waste disposal impacts and the increased energy consumption. Although we considered the non-air quality health and environmental impacts and energy requirements negligible, we concluded that costs associated with adding an oxidation emission control device were unreasonable in light of the small reductions in HAP emissions that would result. We were unable to identify any other feasible regulatory options. Thus, we concluded that MACT for new sources is the MACT floor. Consequently, we concluded that MACT for new test cells/stands used for testing internal combustion engines with a rated power of less than 25 hp (19 kW) located at major source facilities is no reduction in HAP emissions.

3. Test Cells/Stands Used for Testing Combustion Turbine Engines

To determine MACT for test cells/stands used for testing combustion turbine engines, we used data from the MACT database. The database contains information on 287 test cells/stands used for testing combustion turbine engines from major source and synthetic minor source facilities. Since this number includes 252 test cells/stands from major source facilities, and we estimate the number of test cells/stands used for testing combustion turbine engines located at major source facilities to be about 328, we estimate this database represents about 77 percent of test cells/stands used for testing combustion turbine engines located at major source facilities in the United States. We consider the information contained in the MACT database to be representative of all test cells/stands used for testing combustion turbine engines located at major source facilities.

Existing Sources. We examined the MACT database for information on the use of various emission control methods to reduce HAP emissions. First, we examined the use of control technology. No existing test cells/stands used for testing combustion turbine engines located at major source facilities are equipped with emission control technologies.

In addition to considering whether the use of add-on emission control technologies, such as oxidation emission control systems, might identify a MACT floor, we also considered whether any of the alternatives mentioned above (e.g. good operating practices and work practice standards, fuel switching, and the review of State permits and regulations) might identify a MACT floor for existing engine test cells/stands used for testing combustion turbine engines. We were unable to find any good operating practices or work practice standards that result in HAP reductions. Similarly, fuel switching is not a viable alternative since the engine performance and durability being measured to simulate actual in-use conditions can be affected by the type of fuel used. Finally, as we mentioned before, our review of State permits and regulations did not identify any emission control strategies for that type of source. Thus, we conclude again that none of those alternatives could be used to help us identify a MACT floor for existing engine test cells/stands used for testing combustion turbine engines.

Consequently, the average of the best performing 12 percent of existing sources is no reduction in HAP emissions. As a result, we concluded that the MACT floor for existing test cells/stands used for testing combustion turbine engines located at major source facilities is no reduction in HAP emissions.

To determine MACT for existing test cells/stands used for testing combustion turbine engines located at major source facilities, we evaluated regulatory options more stringent than the MACT floor. The only control technology currently proven to reduce HAP emissions from combustion turbine engines is an oxidation catalyst emission control device, such as a CO oxidation catalyst. These control devices are used to reduce CO emissions and are currently installed on several stationary combustion turbine engines. As a result, we concluded they could be used on test cells/stands used for testing combustion turbine engines.

We also reconsidered the same alternatives that we looked at for identifying a MACT floor (e.g., fuel switching, good operating practices and work practice standards, and the review of State permits and regulations), and again concluded they are not viable options for MACT. We considered the costs, the reduction in HAP emissions, and the incremental cost per ton of HAP reduced for the use of an oxidation catalyst emission control device. Those analyses are shown in a memorandum in Docket A-98-29, titled “Control Costs.” In addition, we considered the non-air quality health and environmental impacts and energy requirements associated with this regulatory option, such as potential water pollution and solid waste disposal impacts and the increased energy consumption. Although we considered the non-air quality health and environmental impacts and energy requirements negligible, we concluded that the costs associated with this regulatory option were unreasonable in light of the small reductions in HAP emissions that would result. We were unable to identify any other feasible regulatory options. Thus, we concluded that MACT for existing sources is the MACT floor. Consequently, we concluded that MACT for existing test cells/stands used for testing combustion turbine engines located at major source facilities is no reduction in HAP emissions.

New Sources. To identify the MACT floor for new test cells/stands used for testing combustion turbine engines located at major source facilities, we also examined the MACT database. As mentioned earlier, no existing test cells/stands used for testing combustion turbine engines currently use emission control devices.

In addition to considering whether the use of add-on emission control technologies might identify a MACT floor, we also considered whether any of the alternatives outlined above (e.g., fuel switching, good operating practices and work practice standards, and the review of State permits and regulations), which we considered to identify a MACT floor for existing engine test cells/stands used for testing combustion turbine engines, might identify a MACT floor for new engine test cells/stands used for testing combustion turbine engines. We were unable to find any good operating practices or work practice standards that result in HAP reductions. Similarly, fuel switching is not a viable alternative since the engine performance and durability being measured to simulate actual in-use conditions can be affected by the type of fuel used. Finally, as we mentioned before, our review of State permits and regulations did not identify any emission control strategies for that type of source. Thus, we have concluded that none of those alternatives could be used to identify a MACT floor for new engine test cells/stands used for testing combustion turbine engines.

Therefore, we concluded that the MACT floor for new test cells/stands used for testing combustion turbine engines located at major source facilities is no reduction in HAP emissions.

To determine MACT for new test cells/stands used for testing combustion turbine engines, we evaluated regulatory options more stringent than the MACT floor. We again considered the use of an oxidation catalyst emission control device as an emission control technology which could serve as the basis for MACT for new sources. We also reconsidered the alternatives mentioned above (e.g., fuel switching, good operating practices and work practice standards, and the review of State permits and regulations), which we considered for identifying a MACT floor, but for the same reasons, we concluded they are not viable options for MACT. We considered the costs, the reduction in HAP emissions, and the incremental cost per ton of HAP reduced for this regulatory option. Those analyses are shown in a memorandum in Docket A-98-29, titled “Control Costs.” In addition, we considered the non-air quality health and environmental impacts and energy requirements associated with this regulatory option, such as potential water pollution and solid waste disposal impacts and the increased energy consumption. Although we considered the non-air quality health and environmental impacts and energy requirements negligible, we concluded that costs associated with this regulatory option were unreasonable in light of the small reductions in HAP emissions that would result. We were unable to identify any other feasible regulatory options. Thus, we concluded that MACT for new sources is the MACT floor. Consequently, we concluded that MACT for new test cells/stands used for testing combustion turbine engines located at major source facilities is no reduction in HAP emissions.

4. Test Cells/Stands Used for Testing Rocket Engines

To determine MACT for test cells/stands used for testing rocket engines, we used data from the MACT database. The database contains information on 99 test cells/stands used for testing rocket engines from major source and synthetic minor source facilities. Since this number includes 75 test cells/stands from major source facilities and we estimate the number of test cells/stands used for testing rocket engines located at major source facilities to be about 100, we estimate this database represents about 75 percent of test cells/stands used for testing rocket engines located at major source facilities in the United States. We consider the information contained in the MACT database to be representative of all test cells/stands used for testing rocket engines located at major source facilities.

Existing Sources. We examined the MACT database for information on the use of various emission control systems. First, we examined the use of control technology. No existing test cells/stands used for testing rocket engines located at major source facilities are equipped with emission control technologies.

Another approach we considered to identify a MACT floor was to review State regulations and permits. We could find no State regulations which limit HAP emissions from engine test cells/stands. Similarly, we found no State permits which limit HAP emissions from engine test cells/stands. Therefore, we concluded that State regulations and permits could not be used to identify a MACT floor.

We also considered whether the use of good operating practices and work practice standards might identify a MACT floor. There are no references, however, to “good operating practices” or “work practice standards” in the MACT database, and a review of the general operation of engine test cells/stands failed to identify any good operating practices which might reduce HAP emissions. As a result, we concluded that neither good operating practices nor work practice standards can be used to identify a MACT floor for engine test cells/stands.

In addition to considering whether the use of add-on emission control technologies, State regulations and permits, and good operating practices might identify a MACT floor, we also considered whether other alternatives such as the use of a specific fuel which might result in lower HAP emissions might identify a MACT floor. The purpose of engine testing, however, is to simulate the operation of a specific type of engine in a certain environment, which could be to confirm that the engine was assembled correctly and will function as intended. In other cases, engine testing may be conducted to measure or test the durability or performance of an engine, a new component within an engine, or a new engine design, all within the context of research and development.

The fuel burned in the engine during the test is an integral part of the test itself. One could not test the performance and durability of a rocket engine design by burning a fuel other than the one it is designed to use. Use of a specific fuel to reduce HAP emissions, therefore, is not a viable emission control alternative for rocket engine testing; indeed, such an alternative would defeat the very purpose of the testing. For that reason, we concluded that use of a specific fuel cannot be used to identify a MACT floor for engine cells/stands used for testing rocket engines.

Consequently, the average of the best performing 12 percent of existing sources is no reduction in HAP emissions. As a result, we concluded that the MACT floor for existing test cells/stands used for testing rocket engines located at major source facilities is no reduction in HAP emissions.

To determine MACT for existing test cells/stands used for testing rocket engines located at major source facilities, we attempted to identify regulatory options more stringent than the MACT floor. We are unaware of any emission control technology which could be used to reduce HAP emissions from a test cell/stand used for testing rocket engines.

We also reconsidered the alternatives mentioned above, which we considered for identifying a MACT floor (e.g., fuel switching, good operating practices and work practice standards, and the review of State permits and regulations), but for the reasons also discussed above, we concluded they are not viable options for MACT. We were unable to identify any feasible regulatory options.

A number of characteristics of the exhaust from rocket engine testing (extremely high temperatures, extremely high volumetric flow rates, and very short test durations) and the infrequent timing of testing raise a number of unique problems that must be resolved for an emission control device to be considered a viable option for reducing HAP emissions from test cells/stands used for testing rocket engines. Consequently, we could identify no candidate MACT technologies for analysis. Without a viable emission control device, we are unable to estimate the potential costs associated with its use. Similarly, we are unable to estimate the potential reduction in HAP emissions which might result from the use of such a device.

Thus, we concluded that MACT for existing sources is the MACT floor. Consequently, MACT for existing test cells/stands used for testing rocket engines is no reduction in HAP emissions.

New Sources. To identify the MACT floor for new test cells/stands used for testing rocket engines located at major source facilities, we also examined the MACT database. As mentioned earlier, no existing test cells/stands used for testing rocket engines currently use emission control devices.

In addition to considering whether the use of add-on emission control technologies might identify a MACT floor, we also considered whether any of the alternatives outlined above (e.g., fuel switching, good operating practices and work practice standards, and the review of State permits and regulations), which we considered to identify a MACT floor for existing engine test cells/stands used for testing rocket engines, might identify a MACT floor for new engine test cells/stands used for testing rocket engines. Again, we concluded that none of these alternatives could be used to identify a MACT floor for new engine test cells/stands used for testing rocket engines.

Therefore, we concluded that the MACT floor for new test cells/stands used for testing rocket engines located at major source facilities is no reduction in HAP emissions.

We also considered regulatory options more stringent than the MACT floor. As explained in the previous paragraphs, we were unable to identify any emission control technology which could be used to reduce HAP emissions from a test cell/stand used for testing rocket engines. Thus, we concluded that MACT for new sources is the MACT floor, and we concluded that MACT for new test cells/stands used for testing rocket engines located at major source facilities is no reduction in HAP emissions.

E. How Did We Select the Format of the Standard?

The HAP emissions test reports which serve as the basis for the MACT emission limitations did not measure specific HAP, such as toluene, benzene, mixed xylenes, or 1,3-butadiene, etc. They measured CO emissions and, in most cases, they also measured total hydrocarbon (THC) emissions. In one case, emissions of non-methane organics (NMO) were also measured.

The HAP emitted from engine test cells/stands are hydrocarbons, as well as organics. As a result, if HAP emissions decrease, emissions of THC and NMO will decrease as well. Consequently, the measurements of THC or NMO emissions serve as surrogate measurements of HAP emissions, and we assessed the HAP emissions reduction performance of the oxidation emission control devices in terms of reductions in THC or NMO emissions.

In addition, the data from these HAP emissions test reports also demonstrate a direct relationship between emissions of CO and THC or NMO. If emissions of THC or NMO are reduced, CO emissions are also reduced. As a result, we concluded that CO emissions could also serve as a surrogate for HAP emissions, and we also assessed the HAP emissions reduction performance of the oxidation emission control devices in terms of reductions in CO emissions.

We considered three alternatives in terms of the format for the MACT emission limitations. We could have proposed the emission limitation in terms of THC, NMO, or CO emissions; however, there was only one emission test report available which measured NMO emissions, so we rejected the alternative of an emission limitation in terms of NMO emissions in favor of an emission limitation in terms of either THC or CO emissions.

As outlined earlier, we are proposing a MACT emission limitation in terms of CO emissions. We could have proposed an emission limitation in terms of THC emissions, but chose CO emissions primarily because the costs for CO CEMS are somewhat less than those for THC CEMS. However, since these costs are within the same range, some may prefer a MACT emission limitation in terms of THC, or they may prefer a choice of either the THC or CO emission limitation.

As a result, we specifically request public comment in this area. If we were to adopt a THC MACT emission limitation in place of the proposed CO emission limitation, or if we were to adopt a THC emission limitation in addition to the proposed CO emission limitation and allow affected sources to comply with either the THC or the CO emission limitation, based on the HAP emissions test reports mentioned above, we anticipate that the corresponding THC MACT emission limitation would be: An outlet THC concentration of 3 ppmvd or less, expressed as methane and corrected to 15 percent O2; or a reduction in THC emissions of 99.7 percent.

We recognize that this proposal will be of limited significance because it would require emission reductions from new major sources for only one of the four subcategories identified and that, standing alone, these new sources will likely have low HAP emissions. We nonetheless believe promulgation of standards for this source category is compelled by the Act. Section 112(a) defines “major source” as “any stationary source or group of stationary sources located within a contiguous area and under common control, that emits or has the potential to emit considering controls, in the aggregate, 10 tons per year or more of any hazardous air pollutant or 25 tons per year or more of any combination of hazardous air pollutants.” Thus, sources are considered part of a major source when they are collocated with other sources at facilities that in combination have the potential to emit over the major source thresholds. Because the statute is clear that such collocated sources must be considered major, we believe it is also clear in the statute that we must list categories that include such sources and promulgate standards for those categories pursuant to section 112(d).

In the interest of providing as much compliance flexibility as possible to these sources, we request comments on the possibility of averaging emissions across processes throughout the entire major source and allowing reductions from emission points covered by other MACT standards, within the facility, to be counted towards the emission limitations proposed in this action. Comments should include ideas on how such averaging scheme would work and be implemented. This type of provision, if implemented, could allow flexibility for the affected facility to determine an effective emission control strategy while, at the same time, achieving the emission reductions intended by this proposal.

F. How Did We Select the Initial Compliance Requirements?

We are proposing the use of CO and O2 CEMS to demonstrate compliance with the applicable emission limitation. These CEMS are available at reasonable costs and are in widespread use in numerous applications and numerous industries.

For sources complying with either the outlet CO concentration emission limitation or the CO percent reduction emission limitation, an initial performance evaluation of the CEMS is required. This performance evaluation will certify the performance of the CO and O2 CEMS. The first 4-hour period following this performance evaluation of the CEMS will be used to determine initial compliance with either emission limitation.

G. How Did We Select the Continuous Compliance Requirements?

As mentioned above, we are proposing the use of CEMS to demonstrate compliance with the applicable emission limitation. If you must comply with the outlet CO concentration emission limitation or the CO percent reduction emission limitation, continuous compliance with the limitation is required at all times. We are proposing the use of Procedure 1 in 40 CFR part 60, appendix F, to ensure that the performance of the CEMS does not deteriorate over time.

We consider the use of CEMS the best means of ensuring continuous compliance with the emission limitation, and alternatives to CEMS are considered only if we consider the use of a CEMS technically or economically infeasible. For sources complying with either of the emission limitations, we believe requiring a CEMS is feasible because the costs of CO and O2 CEMS are reasonable.

H. How Did We Select the Monitoring and Testing Methods?

Continuous emission monitoring systems are available which can measure CO emissions at the low concentrations found in the exhaust from an oxidation emission control device operating on an engine test cell/stand. Performance Specification 4A for CO CEMS has not been updated recently and does not reflect the performance capabilities of these CEMS.

As a result, we solicit comments on the performance capabilities of state-of-the-art CO CEMS and their ability to accurately measure the low concentrations of CO experienced in the exhaust of an engine test cell/stand. We also solicit comments with specific recommendations on the changes we should make to our performance specification for CO CEMS (PS4A) to ensure the installation and use of CEMS which can be used to determine compliance of engine test cells/stands with the proposed emission limitation. In addition, we solicit comments on the availability of instruments that can be used to measure the low CO concentrations emitted by some engine test cells/stands, and that are capable of meeting the recommended changes to our performance specifications for CO CEMS.

Today's proposal specifies the use of Method 3A or 3B of 40 CFR part 60, appendix A, as the reference method to certify the performance of O2 CEMS and the use of Method 10 of 40 CFR part 60, appendix A, as the reference method to certify the performance of the CO CEMS. Method 10 is capable of measuring CO concentrations as low as those experienced in the exhaust of an oxidation emission control device operating on an engine test cell/stand. However, the performance criteria in addenda A of Method 10 have not been revised recently and are not suitable for certifying the performance of a CO CEMS at these CO concentrations. Specifically, we believe the range and minimum detectable sensitivity should be changed to reflect target concentrations as low as 1 ppmvd CO in some cases.

As a result, we solicit comments with specific recommendations on the changes we should make to Method 10 and the performance criteria in addenda A, as they are related to the low CO levels emitted by some engine test cells/stands. If you recommend changes to Method 10 or the performance criteria, we also solicit comments on the availability of instruments that can be used to measure the low CO concentrations emitted by some engine test cells/stands, and that are capable of meeting those changes, while also meeting the remaining addenda A performance criteria.

I. How Did We Select the Notification, Recordkeeping and Reporting Requirements?

The proposed notification, recordkeeping, and reporting requirements are based on the NESHAP General Provisions of 40 CFR part 63.

IV. Summary of Environmental, Energy and Economic Impacts

A. What Are the Air Quality Impacts?

This proposed rule will reduce HAP emissions in the 5th year following promulgation by an estimated 135 tons (148.5 megagrams).

B. What Are the Cost Impacts?

The total annualized cost of this proposed rule in the 5th year following promulgation is estimated to be about $7.4 million. This cost includes recordkeeping and reporting costs, CEMS costs, emission control device costs, and operating, maintenance, and annualized capital investment costs for emission control devices and CEMS.

C. What Are the Economic Impacts?

This proposed rule is not expected to affect any of the existing engine test cells/stands located at major source facilities which test internal combustion engines, combustion turbine engines, or rocket engines.

We estimate that 148 new engine test cells/stands will be constructed in the next 5 years at engine research and development or production facilities which are major sources of HAP emissions. These new engine test cells/stands will be required to comply with the proposed rule.

We anticipate that 84 of these new engine test cells/stands will be built at auto, tractor, and diesel engine manufacturing facilities, and that 64 of these new engine test cells/stands will be built at military facilities.

The auto, tractor, and diesel engine manufacturing firms that are expected to construct new engine test cells/stands are large multi-national firms; thus, the cost of compliance is insignificant in comparison to firm revenues. The total sales for the potentially affected firms range from $6.5 billion to more than $184 billion. Thus, the impact on affected firms ranges from 0.0007 to 0.015 percent of corporate revenues. Likewise, the cost of compliance for military facilities that may be affected is insignificant when compared to selected facilities expenditures. The compliance costs account for 0.07 percent of facility expenditures on average, and 0.001 percent of the 2001 budget for U.S. defense. Therefore, the economic impacts associated with this proposed rule are considered negligible.

D. What Are the Non-Air Health, Environmental and Energy Impacts?

We do not expect any significant wastewater, solid waste, or energy impacts resulting from this proposed rule. Energy impacts associated with this proposed rule would be due to additional energy consumption that would be required by installing and operating control equipment. The only energy requirement for the operation of the control technologies is a very small increase in fuel consumption resulting from back pressure caused by the emission control system.

V. Solicitation of Comments and Public Participation

We are requesting comments on this proposed rule. We request comments on all aspects of this proposed rule, such as the proposed emission limitation, recordkeeping and monitoring requirements, as well as aspects you may feel have not been addressed.

We also request comments on the performance capabilities of state-of-the-art CO CEMS and their ability to measure the low concentrations of CO in the exhaust of engine test cells/stands.

We also request comments with recommendations on changes commenters believe we should make to our performance specifications for CO CEMS (PS4A) of 40 CFR part 60, appendix B, to Method 10 of 40 CFR part 60, appendix A, and the performance criteria in addenda A to Method 10 that will allow the measurement of low CO concentrations emitted by some engine test cells/stands. In addition, we request comments from these commenters on the availability of instruments that can be used to measure the low CO concentrations emitted by some engine test cells/stands, and that are capable of meeting the changes they recommend to our performance specification for CO CEMS (PS4A) of 40 CFR part 60, appendix B, Method 10 of 40 CFR part 60, appendix A, and addendum A to Method 10.

We also solicit comments on whether we should adopt a MACT emission limitation in terms of THC emissions rather than CO emissions. In addition, we solicit comments on whether we should adopt both THC and CO MACT emission limitations and allow affected sources to comply with either the THC or the CO MACT emission limitation.

We request any HAP emissions test data available from engine test cells/stands equipped with an oxidation emission control device or other equivalent emission control system; however, if you submit HAP emissions test data, please submit the full and complete emission test report with these data. Include the sections describing the specific type of engine and its operation during the test, discussion of the test methods employed and the Quality Assurance/Quality Control procedures followed, the raw data sheets, and all related calculations. The emissions data submitted without this information is not useful.

Finally, in the interest of providing as much compliance flexibility as possible to major sources, we request comments on the possibility of averaging emissions across processes throughout the entire major source and allowing reductions from emission points covered by other MACT standards, within the facility, to be counted towards the emission limitations proposed in this action. Comments should include ideas on how such averaging scheme would work and be implemented. This type of provision, if promulgated, could allow flexibility for the affected facility to determine an effective emission control strategy while, at the same time, achieving the emission reductions intended by this proposal.

VI. Administrative Requirements

A. Executive Order 12866, Regulatory Planning and Review

Under Executive Order 12866 (58 FR 51735, October 4, 1993), we must determine whether a regulatory action is “significant” and, therefore, subject to review by the Office of Management and Budget (OMB) and the requirements of the Executive Order. The Executive Order defines “significant regulatory action” as one that is likely to result in a rule that may:

(1) Have an annual effect on the economy of $100 million or more or adversely affect in a material way the economy, a sector of the economy, productivity, competition, jobs, the environment, public health or safety, or State, local, or tribal governments or communities;

(2) Create a serious inconsistency or otherwise interfere with an action taken or planned by another agency;

(3) Materially alter the budgetary impact of entitlements, grants, user fees, or loan programs, or the rights and obligation of recipients thereof; or

(4) Raise novel legal or policy issues arising out of legal mandates, the President's priorities, or the principles set forth in the Executive Order.

Pursuant to the terms of Executive Order 12866, we have determined that this rule is not a “significant regulatory action” because it does not have an annual effect on the economy of over $100 million. As such, this action was not submitted to OMB for review.

B. Executive Order 13132, Federalism

Executive Order 13132, entitled “Federalism” (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

This proposed rule does not have federalism implications. It will not have substantial direct effects on the States, on the relationship between the national government and the States, or on the distribution of power and responsibilities among the various levels of government, as specified in Executive Order 13132.

We are required by section 112 of the CAA to establish the standards in this proposed rule. This proposed rule primarily affects private industry and does not impose significant economic costs on State or local governments. This proposed rule does not include an express provision preempting State or local regulations. Thus, the requirements of section 6 of the Executive Order do not apply to this proposed rule.

In the spirit of Executive Order 13132, and consistent with EPA policy to promote communications between EPA and State and local governments, EPA specifically solicits comment on this proposed rule from State and local officials.

C. Executive Order 13175, Consultation and Coordination With Indian Tribal Governments

Executive Order 13175, entitled “Consultation and Coordination with Indian Tribal Governments” (65 FR 67249, November 6, 2000), requires EPA to develop an accountable process to ensure “meaningful and timely input by tribal officials in the development of regulatory policies that have tribal implications.” “Policies that have tribal implications” is defined in the Executive Order to include regulations that have “substantial direct effects on one or more Indian tribes, on the relationship between the Federal government and the Indian tribes, or on the distribution of power and responsibilities between the Federal government and Indian tribes.”

This proposed rule does not have tribal implications. It will not have substantial direct effects on tribal governments, on the relationship between the Federal government and Indian tribes, or on the distribution of power and responsibilities between the Federal government and Indian tribes, as specified in Executive Order 13175. We know of one company that reported operating engine test cells/stands that are owned by an Indian tribal government. However, these test cells/stands are used for testing rocket engines. Although test cells/stands used for testing rocket engines are covered by the proposed rule, test cells/stands used for testing rocket engines are not required to meet any emission limitation, reporting, or recordkeeping requirements. Thus, Executive Order 13175 does not apply to this proposed rule.

D. Executive Order 13045, Protection of Children From Environmental Health Risks and Safety Risks

Executive Order 13045 (62 FR 19885, April 23, 1997) applies to any rule that: (1) Is determined to be “economically significant” as defined under Executive Order 12866, and (2) concerns an environmental health or safety risk that we have reason to believe may have a disproportionate effect on children. If the regulatory action meets both criteria, we must evaluate the environmental health or safety effects of the planned rule on children, and explain why the planned regulation is preferable to other potentially effective and reasonably feasible alternatives.

We interpret Executive Order 13045 as applying only to those regulatory actions that are based on health or safety risks, such that the analysis required under section 5-501 of the Executive Order has the potential to influence the regulation. This proposed rule is not subject to Executive Order 13045 because it is based on technology performance and not on health or safety risks.

E. Executive Order 13211, Actions Concerning Regulations that Significantly Affect Energy Supply, Distribution, or Use

This proposed rule is not subject to Executive Order 13211, (66 FR 28355, May 22, 2001) because it is not a significant regulatory action under Executive Order 12866.

F. Unfunded Mandates Reform Act of 1995

Title II of the Unfunded Mandates Reform Act of 1995 (UMRA), Public Law 104-4, establishes requirements for Federal agencies to assess the effects of their regulatory actions on State, local, and tribal governments and the private sector. Under section 202 of the UMRA, we generally must prepare a written statement, including a cost-benefit analysis, for proposed and final rules with “Federal mandates” that may result in expenditures to State, local, and tribal governments, in the aggregate, or to the private sector, of $100 million or more in any 1 year. Before promulgating a rule for which a written statement is needed, section 205 of the UMRA generally requires us to identify and consider a reasonable number of regulatory alternatives and adopt the least costly, most cost-effective or least burdensome alternative that achieves the objectives of the rule. The provisions of section 205 do not apply when they are inconsistent with applicable law. Moreover, section 205 allows us to adopt an alternative other than the least costly, most cost-effective or least burdensome alternative if the Administrator publishes with the final rule an explanation why that alternative was not adopted. Before we establish any regulatory requirements that may significantly or uniquely affect small governments, including tribal governments, we must develop a small government agency plan under section 203 of the UMRA. The plan must provide for notifying potentially affected small governments, enabling officials of affected small governments to have meaningful and timely input in the development of regulatory proposals with significant Federal intergovernmental mandates, and informing, educating, and advising small governments on compliance with the regulatory requirements.

We have determined that this proposed rule does not contain a Federal mandate that may result in expenditures of $100 million or more for State, local, and tribal governments, in the aggregate, or the private sector in any 1 year. Accordingly, today's proposed rule is not subject to the requirements of sections 202 and 205 of the UMRA.

In addition, we have determined that this proposed rule contains no regulatory requirements that might significantly or uniquely affect small governments. Therefore, today's proposed rule is not subject to the requirements of section 203 of the UMRA.

G. Regulatory Flexibility Act (RFA), as Amended by the Small Business Regulatory Enforcement Fairness Act of 1996 (SBREFA), 5 U.S.C. 601 et seq.

The RFA generally requires an agency to prepare a regulatory flexibility analysis of any rule subject to notice and comment rulemaking requirements under the Administrative Procedures Act or any other statute unless the agency certifies that the rule will not have a significant economic impact on a substantial number of small entities. Small entities include small businesses, small organizations, and small governmental jurisdictions.

For purposes of assessing the impacts of today's proposed rule on small entities, small entity is defined as: (1) A small business whose parent company has either fewer than 500 employees if the business is involved in testing marine engines, or fewer than 1,000 employees if the business is involved in the testing of other types of engines; (2) a small governmental jurisdiction that is a government of a city, county, town, school district or special district with a population of less than 50,000; and (3) a small organization that is any not-for-profit enterprise which is independently owned and operated and is not dominant in its field.

The requirements of this proposed rule apply only to major sources, which are defined as facilities that emit more than 10 tons per year of any one HAP, or more than 25 tons per year of a combination of HAP. According to our analyses, none of the identified major sources met the definition of a small business stated above. Therefore, this proposed rule will not impose any requirements on small entities. Pursuant to the provisions of 5 U.S.C. 605(b), we hereby certify that the proposed NESHAP, if promulgated, will not have a significant economic impact on a substantial number of small entities.

In 1998, we sent information collection requests (ICR) to over 100 companies representing over 300 individual facilities. The ICR requested information on HAP emissions from engine test cells/stands and on the number of employees of the parent company. Using that information, we determined that there are no major sources that are also small businesses.

In addition to the analyses of ICR data, we held several meetings with companies that operate engine testing facilities to inform them of the progress and development of the proposed rule. We also held a meeting on April 11, 2001 with the National Marine Manufacturers Association (NMMA), which represents the small businesses that had previously expressed concerns about the possible impacts of this proposed rule. That meeting helped clarify to NMMA and its member companies what type of facilities might be subject to this proposed rule. The meeting was followed up with phone conversations with NMMA and some of its member companies in order to obtain more information and to determine if any of the small entities emitted enough HAP to be considered a major source. Again, we concluded after the outreach activities that none of the small marine engine manufacturing businesses represented by NMMA would be subject to this proposed rule since they do not emit enough HAP to be considered major sources.

Although this proposed rule is not expected to regulate small entities, we have tried to reduce the impact of this proposed rule on all sources. In this proposed rule, we are applying the minimum level of control and the minimum level of monitoring, recordkeeping, and reporting to affected sources allowed by the CAA. We continue to be interested in the potential impacts of the proposed rule on small entities and welcome comments on issues related to such impacts.

H. Paperwork Reduction Act

The information collection requirements in this proposed rule have been submitted for approval to the Office of Management and Budget under the Paperwork Reduction Act, 44 U.S.C. 3501 et seq. An Information Collection Request (ICR) document has been prepared (ICR No. 1967.01) and a copy may be obtained from Susan Auby by mail at the Collection Strategies Division, U.S. Environmental Protection Agency (2822), 1200 Pennsylvania Avenue NW, Washington, DC 20460, by e-mail at auby.susan@epa.gov, or by calling (202) 566-1672. A copy may also be downloaded off the Internet at http://www.epa.gov/icr.

The information requirements are based on notification, recordkeeping, and reporting requirements in the NESHAP General Provisions (40 CFR part 63, subpart A), which are mandatory for all operators subject to national emission standards. These recordkeeping and reporting requirements are specifically authorized by section 114 of the CAA (42 U.S.C. 7414). All information submitted to EPA pursuant to the recordkeeping and reporting requirements for which a claim of confidentiality is made is safeguarded according to Agency policies set forth in 40 CFR part 2, subpart B.

The proposed rule requires maintenance inspections of the control devices but does not require any notifications or reports beyond those required by the General Provisions. The recordkeeping requirements involve only the specific information needed to determine compliance.

The annual monitoring, reporting, and recordkeeping burden for this collection (averaged over the first 5 years after the effective date of the standards) is estimated to be 9,600 labor hours per year at a total annual cost of $440,800. This estimate includes a one-time (initial) CEMS performance evaluation, annualized capital monitoring equipment costs, semiannual compliance reports, maintenance inspections, notifications, and recordkeeping. Total annual costs associated with the new source control and monitoring requirements over the period of the ICR are estimated at $7.4 million.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An Agency may not conduct or sponsor, and a person is not required to respond to, a collection of information unless it displays a currently valid OMB control number. The OMB control numbers for our regulations are listed in 40 CFR part 9 and 48 CFR chapter 15.

Comments are requested on the Agency's need for this information, the accuracy of the provided burden estimates, and any suggested methods for minimizing respondent burden, including through the use of automated collection techniques. Send comments on the ICR to the Director, Collection Strategies Division, U.S. Environmental Protection Agency (2822), 1200 Pennsylvania Ave., NW, Washington, DC 20460; and to the Office of Information and Regulatory Affairs, Office of Management and Budget, 725 17th St., NW, Washington, DC 20503, marked “Attention: Desk Officer for EPA.” Include the ICR number in any correspondence.

Since OMB is required to make a decision concerning the ICR between 30 and 60 days after May 14, 2002, a comment to OMB is best assured of having its full effect if OMB receives it by June 13, 2002. The final rule will respond to any OMB or public comments on the information collection requirements contained in this proposal.

I. National Technology Transfer and Advancement Act of 1995

Section 12(d) of the National Technology Transfer and Advancement Act (NTTAA) of 1995 (Pub. L. 104-113; 15 U.S.C. 272 note) directs EPA to use voluntary consensus standards in their regulatory and procurement activities unless to do so would be inconsistent with applicable law or otherwise impractical. Voluntary consensus standards are technical standards (e.g., materials specifications, test methods, sampling procedures, business practices) developed or adopted by one or more voluntary consensus bodies. The NTTAA directs EPA to provide Congress, through annual reports to OMB, with explanations when an agency does not use available and applicable voluntary consensus standards.

This proposed rulemaking involves technical standards. We propose to use EPA Methods 3A, 3B, 10, 10B of 40 CFR part 60, appendix A, and PS3 and PS4A of 40 CFR part 60, appendix B. Consistent with the NTTAA, we searched for voluntary consensus standards which could be used in lieu of these methods/performance specifications. No applicable voluntary consensus standards were identified for EPA Method 10B and PS3 and PS4A.

One voluntary consensus standard was identified as an acceptable alternative to EPA Methods 3A and 10. The voluntary consensus standard ASTM D6522-00, “Standard Test Method for the Determination of Nitrogen Oxides, Carbon Monoxide, and Oxygen Concentrations in Emissions from Natural Gas-Fired Reciprocating Engines, Combustion Turbines, Boilers and Process Heaters Using Portable Analyzers” is an acceptable alternative to EPA Methods 3A and 10 for identifying oxygen and carbon monoxide concentrations, respectively, for this proposed rule when the fuel used during testing is natural gas.

Our search for emissions measurement procedures identified seven other voluntary consensus standards. Six of these seven standards identified for measuring emissions of the HAP or surrogates subject to emission standards in the proposed rule, however, were impractical alternatives to EPA test methods/performance specifications for the purposes of this proposed rule. Therefore, for the reason discussed below, we do not intend to adopt these voluntary consensus standards.

The standard, ASTM D3162 (1994) “Standard Test Method for Carbon Monoxide in the Atmosphere (Continuous Measurement by Nondispersive Infrared (NDIR) Spectrometry),” is impractical as an alternative to EPA Method 10 in this proposed rulemaking because this ASTM standard, which is stated to be applicable in the range of 0.5-100 ppm CO, does not cover the range of EPA Method 10 (20-1000 ppm CO) at the upper end (but states that it has a lower limit of sensitivity). Also, ASTM D3162 does not provide a procedure to remove carbon dioxide interference. Therefore, this ASTM standard is not appropriate for combustion sources. In terms of NDIR instrument performance specifications, ASTM D3162 has much higher maximum allowable rise and fall times (5 minutes) than EPA Method 10 (which has 30 seconds).

The following five voluntary consensus standards are impractical alternatives to EPA test methods for the purposes of this proposed rule because they are too general, too broad, or not sufficiently detailed to assure compliance with EPA regulatory requirements: ASTM D3154-91 (1995), “Standard Method for Average Velocity in a Duct (Pitot Tube Method),” for EPA Method 3B; ASTM D5835-95, “Standard Practice for Sampling Stationary Source Emissions, for Automated Determination of Gas Concentration,” for EPA Methods 3A and 10; ISO 10396:1993, “Stationary Source Emissions: Sampling for the Automated Determination of Gas Concentrations,” for EPA Methods 3A and 10; CAN/CSA Z223.2-M86(1986), “Method for the Continuous Measurement of Oxygen, Carbon Dioxide, Carbon Monoxide, Sulphur Dioxide, and Oxides of Nitrogen in Enclosed Combustion Flue Gas Streams,” for EPA Methods 3A and 10; and CAN/CSA Z223.21-M1978, “Method for the Measurement of Carbon Monoxide: 3—Method of Analysis by Non-Dispersive Infrared Spectrometry,” for EPA Method 10.

The seventh voluntary consensus standard identified in this search for EPA Methods 3A and 10, ISO/DIS 12039, “Stationary Source Emissions—Determination of Carbon Monoxide, Carbon Dioxide, and Oxygen—Automated Methods,” was not available at the time the review was conducted for the purposes of this proposed rulemaking because the method was under development by a voluntary consensus body. While we are not proposing to include this voluntary consensus standard in today's proposal, we will consider it when this voluntary consensus standard is final.

We invite comment on the compliance demonstration requirements included in the proposed rule and specifically solicit comment on potentially applicable voluntary consensus standards. Commenters should explain, however, why this proposed rule should adopt these voluntary consensus standards in lieu of or in addition to EPA's methods or performance specifications. Emission test methods and performance specifications submitted for evaluation should be accompanied with a basis for the recommendation, including method validation data and the procedure used to validate the candidate method (if a method other than Method 301, 40 CFR part 63, appendix A, was used).

Sections 63.9310 and 63.9325 to subpart PPPPP lists the testing methods/performance specifications included in the proposed rule. Under § 63.8 of subpart A of the General Provisions, a source may apply to EPA for permission to use alternative monitoring in place of any of the EPA testing methods.

List of Subjects in 40 CFR Part 63

Environmental protection, Administrative practice and procedure, Air pollution control, Hazardous substances, Intergovernmental relations, Reporting and recordkeeping requirements.

Dated: May 1, 2002.
Christine Todd Whitman,
Administrator.

For the reasons set out in the preamble, title 40, chapter I, part 63 of the Code of the Federal Regulations is proposed to be amended as follows:

PART 63—[AMENDED]

1. The authority citation for part 63 continues to read as follows:

Authority: 42 U.S.C. 7401, et seq.

2. Part 63 is amended by adding subpart PPPPP to read as follows:

Subpart PPPPP—National Emission Standards for Hazardous Air Pollutants: Engine Test Cells/Stands

Sec.
What This Subpart Covers
63.9280 What is the purpose of this subpart PPPPP?
63.9285 Am I subject to this subpart?
63.9290 What parts of my plant does this subpart cover?
63.9295 When do I have to comply with this subpart?
Emission Limitations
63.9300 What emission limitation must I meet?
General Compliance Requirements
63.9305 What are my general requirements for complying with this subpart?
Testing and Initial Compliance Requirements
63.9310 By what date must I conduct the initial compliance demonstrations?
63.9320 What procedures must I use?
63.9325 What are my monitor installation, operation, and maintenance requirements?
63.9330 How do I demonstrate initial compliance with the applicable emission limitation?
Continuous Compliance Requirements
63.9335 How do I monitor and collect data to demonstrate continuous compliance?
63.9340 How do I demonstrate continuous compliance with the applicable emission limitation?
Notifications, Reports, and Records
63.9345 What notifications must I submit and when?
63.9350 What reports must I submit and when?
63.9355 What records must I keep?
63.9360 In what form and how long must I keep my records?
Other Requirements and Information
63.9365 What parts of the General Provisions apply to me?
63.9370 Who implements and enforces this subpart?
63.9375 What definitions apply to this subpart?
Tables to Subpart PPPPP of Part 63
Table 1 to Subpart PPPPP of Part 63—Emission Limitations
Table 2 to Subpart PPPPP of Part 63—Requirements for Initial Compliance Demonstrations
Table 3 to Subpart PPPPP of Part 63—Initial Compliance with Emission Limitations
Table 4 to Subpart PPPPP of Part 63—Continuous Compliance with Emission Limitations
Table 5 to Subpart PPPPP of Part 63—Requirements for Reports
Table 6 to Subpart PPPPP of Part 63—Applicability of General Provisions to Subpart PPPPP of Part 63

Subpart PPPPP—National Emission Standards for Hazardous Air Pollutants: Engine Test Cells/Stands

What This Subpart Covers

§ 63.9280 What is the purpose of this subpart PPPPP?

Subpart PPPPP establishes national emission standards for hazardous air pollutants (NESHAP) for engine test cells/stands located at major sources of hazardous air pollutants (HAP) emissions. This subpart also establishes requirements to demonstrate initial and continuous compliance with the emission limitations contained in this NESHAP.

§ 63.9285 Am I subject to this subpart?

You are subject to this subpart if you own or operate an engine test cell/stand that is located at a major source of HAP emissions.

(a) An engine test cell/stand is any apparatus used for testing uninstalled stationary or uninstalled mobile (motive) engines.

(b) A major source of HAP emissions is a plant site that emits or has the potential to emit any single HAP at a rate of 10 tons (9.07 megagrams) or more per year or any combination of HAP at a rate of 25 tons (22.68 megagrams) or more per year.

§ 63.9290 What parts of my plant does this subpart cover?

This subpart applies to each affected source.

(a) Affected source. An affected source is any existing, new, or reconstructed engine test cell/stand that is located at a major source of HAP emissions.

(1) Existing engine test cell/stand. An engine test cell/stand is existing if you commenced construction or reconstruction of the engine test cell/stand on or before May 14, 2002. A change in ownership of an existing engine test cell/stand does not make that engine test cell/stand a new or reconstructed engine test cell/stand.

(2) New engine test cell/stand. An engine test cell/stand is new if you commenced construction of the engine test cell/stand after May 14, 2002.

(3) Reconstructed engine test cell/stand. An engine test cell/stand is reconstructed if you meet the definition of reconstruction in § 63.2 and reconstruction is commenced after May 14, 2002.

(b) Existing engine test cells/stands do not have to meet the requirements of this subpart and of subpart A of this part.

(c) A new or reconstructed engine test cell/stand located at a major source which is used exclusively for testing internal combustion engines with a rated power of less than 25 horsepower (hp) (19 kilowatts (kW)) does not have to meet the requirements of this subpart and of subpart A of this part except for the initial notification requirements of § 63.9345(b).

(d) A new or reconstructed engine test cell/stand located at a major source which is used exclusively for testing combustion turbine engines or which is used exclusively for testing rocket engines does not have to meet the requirements of this subpart and of subpart A of this part.

§ 63.9295 When do I have to comply with this subpart?

(a) Affected sources.

(1) If you start up your new or reconstructed engine test cell/stand before [DATE THE FINAL RULE IS PUBLISHED IN THE Federal Register], you must comply with the emission limitation in this subpart no later than [DATE THE FINAL RULE IS PUBLISHED IN THE Federal Register].

(2) If you start up your new or reconstructed engine test cell/stand on or after [DATE THE FINAL RULE IS PUBLISHED IN THE Federal Register], you must comply with the emission limitation in this subpart upon startup.

(b) Area sources that become major sources. If your new or reconstructed engine test cell/stand is located at an area source that increases its emissions or its potential to emit such that it becomes a major source of HAP, your new or reconstructed engine test cell/stand must be in compliance with this subpart when the area source becomes a major source.

(c) You must meet the notification requirements in § 63.9345 according to the schedule in § 63.9345 and in subpart A of this part.

Emission Limitations

§ 63.9300 What emission limitation must I meet?

For each new or reconstructed test cell/stand which is used in whole or in part for testing internal combustion engines with a rated power of 25 hp (19 kW) or more and which is located at a major source, you must comply with one of the two emission limitations in Table 1 of this subpart.

General Compliance Requirements

§ 63.9305 What are my general requirements for complying with this subpart?

(a) You must be in compliance with the emission limitation which applies to you at all times, including startup, shutdown, or malfunction of your engine test cell/stand.

(b) If you must comply with an emission limitation, you must operate and maintain your engine test cell/stand, air pollution control equipment, and monitoring equipment in a manner consistent with good air pollution control practices for minimizing emissions at all times.

Testing and Initial Compliance Requirements

§ 63.9310 By what date must I conduct the initial compliance demonstrations?

You must conduct the initial compliance demonstrations that apply to you in Table 2 of this subpart within 180 calendar days after the compliance date that is specified for your engine test cell/stand in § 63.9295 and according to the provisions in § 63.7(a)(2).

§ 63.9320 What procedures must I use?

(a) You must conduct each initial compliance demonstration that applies to you in Table 2 of this subpart.

(b) You must conduct a performance evaluation of each continuous emissions monitor system (CEMS) according to the requirements in § 63.8 and according to the applicable Performance Specification (PS) of 40 CFR part 60, appendix B (PS3 or PS4A).

(c) If you chose to comply with the carbon monoxide (CO) concentration emission limitation, the initial demonstration of compliance consists of the first 4-hour rolling average CO concentration recorded after completion of the CEMS performance evaluation. You must correct the CO concentration at the outlet of the engine test cell/stand or the emission control device to a dry basis and to 15 percent oxygen (O2) content according to Equation 1 of this section:

Where:

Cc = concentration of CO, corrected to 15 percent oxygen, parts per million by volume, dry basis (ppmvd)

Cunc = total uncorrected concentration of CO, ppmvd

%O2d = concentration of oxygen measured in gas stream, dry basis, percent by volume.

(d) If you chose to comply with the CO percent reduction emission limitation, the initial demonstration of compliance consists of the first 4-hour rolling average percent reduction in CO recorded after completion of the performance evaluation of the CEMS. You must complete the actions described in paragraphs (d)(1) through (2) of this section.

(1) Correct the CO concentrations at the inlet and outlet of the emission control device to a dry basis and to 15 percent O2 content using Equation 1 of this section.

(2) Calculate the percent reduction in CO using this Equation 2:

Where:

R = percent reduction in CO

Ci = corrected CO concentration at inlet of the emission control device

Co = corrected CO concentration at the outlet of the emission control device.

§ 63.9325 What are my monitor installation, operation, and maintenance requirements?

(a) To comply with the CO concentration emission limitation, you must install, operate, and maintain a CEMS to monitor CO and O2 at the outlet of the exhaust system of the engine test cell/stand or at the outlet of the emission control device.

(b) To comply with the CO percent reduction emission limitation, you must install, operate, and maintain a CEMS to monitor CO and O2 at both the inlet and the outlet of the emission control device.

(c) To comply with either emission limitation, the CEMS must be installed and operated according to the requirements described in paragraphs (c)(1) through (4) of this section.

(1) You must install, operate, and maintain each CEMS according to the applicable PS of 40 CFR part 60, appendix B (PS3 or PS4A).

(2) You must conduct a performance evaluation of each CEMS according to the requirements in § 63.8 and according to PS3 of 40 CFR part 60, appendix B, using Method 3A or 3B of 40 CFR part 60, appendix A, for the O2 CEMS; and according to PS4A of 40 CFR part 60, appendix B, using Method 10 or 10B of 40 CFR part 60, appendix A, for the CO CEMS. If the fuel used in the engines being tested is natural gas, you may use ASTM D 6522-00, “Standard Test Method for Determination of Nitrogen Oxides, Carbon Monoxide and Oxygen Concentration in Emissions from Natural Gas Fired Reciprocating Engines, Combustion Turbines, Boilers, and Process Heaters Using Portable Analyzers.”

(3) As specified in § 63.8(c)(4)(ii), each CEMS must complete a minimum of one cycle of operation (sampling, analyzing, and data recording) for each successive 15-minute period. You must have at least two data points, each representing a different 15-minute period within the same hour, to have a valid hour of data.

(4) All CEMS data must be reduced as specified in § 63.8(g)(2) and recorded as CO concentration in ppmvd, corrected to 15 percent O2 content.

(d) If you have CEMS that are subject to paragraph (a) or (b) of this section, you must properly maintain and operate the monitors continuously according to the requirements described in paragraphs (d)(1) and (2) of this section.

(1) Proper maintenance. You must maintain the monitoring equipment at all times that the engine test cell/stand is operating, including but not limited to, maintaining necessary parts for routine repairs of the monitoring equipment.

(2) Continued operation. You must operate your CEMS according to paragraphs (d)(2) (i) and (ii) of this section.

(i) You must conduct all monitoring in continuous operation at all times that the engine test cell/stand is operating, except for, as applicable, monitoring malfunctions, associated repairs, and required quality assurance or control activities (including, as applicable, calibration drift checks and required zero and high-level adjustments). Quality assurance or control activities must be performed according to Procedure 1 of 40 CFR part 60, appendix F.

(ii) Data recorded during monitoring malfunctions, associated repairs, out-of-control periods, and required quality assurance or control activities must not be used for purposes of calculating data averages. You must use all of the data collected from all other periods in assessing compliance. A monitoring malfunction is any sudden, infrequent, not reasonably preventable failure of the monitoring equipment to provide valid data. Monitoring failures that are caused in part by poor maintenance or careless operation are not malfunctions. Any period for which the monitoring system is out-of-control and data are not available for required calculations constitutes a deviation from the monitoring requirements.

§ 63.9330 How do I demonstrate initial compliance with the applicable emission limitation?

(a) You must demonstrate initial compliance with the emission limitation that applies to you according to Table 3 of this subpart.

(b) You must submit the Notification of Compliance Status containing results of the initial compliance demonstration according to the requirements in § 63.9345(f).

Continuous Compliance Requirements

§ 63.9335 How do I monitor and collect data to demonstrate continuous compliance?

(a) Except for monitor malfunctions, associated repairs, and required quality assurance or quality control activities (including, as applicable, calibration drift checks and required zero and high-level adjustments of the monitoring system), you must conduct all monitoring in continuous operation at all times the engine test cell/stand is operating.

(b) Do not use data recorded during monitor malfunctions, associated repairs, and required quality assurance or quality control activities for meeting the requirements of this subpart, including data averages and calculations. You must use all the data collected during all other periods in assessing the performance of the emission control device or in assessing emissions from the new or reconstructed engine test cell/stand.

§ 63.9340 How do I demonstrate continuous compliance with the applicable emission limitation?

(a) You must demonstrate continuous compliance with the emission limitation in Table 1 of this subpart that applies to you according to methods specified in Table 4 of this subpart.

(b) You must report each instance in which you did not meet the emission limitation which applies to you. You must also report each instance in which you did not meet the requirements in Table 6 of this subpart which apply to you. These instances are deviations from the emission limitations in this subpart and must be reported according to the requirements in § 63.9350.

(c) Deviations from the applicable emission limitation that occur during a period of malfunction of the control equipment as defined by § 63.9375 are not violations.

Notifications, Reports, and Records

§ 63.9345 What notifications must I submit and when?

(a) You must submit all of the notifications in §§ 63.8(e), (f)(4) and (6) and 63.9(b), (g)(1) and (2), and (h) that apply to you by the dates specified.

(b) If you own or operate a new or reconstructed test cell/stand used for testing internal combustion engines, you are required to submit an Initial Notification as specified in paragraphs (b)(1) through (3) of this section.

(1) As specified in § 63.9(b)(2), if you start up your new or reconstructed engine test cell/stand before [DATE THE FINAL RULE IS PUBLISHED IN THE FEDERAL REGISTER], you must submit an Initial Notification not later than 120 calendar days after [DATE THE FINAL RULE IS PUBLISHED IN THE FEDERAL REGISTER].

(2) As specified in § 63.9(b), if you start up your new or reconstructed engine test cell/stand on or after [DATE THE FINAL RULE IS PUBLISHED IN THE FEDERAL REGISTER], you must submit an Initial Notification not later than 120 calendar days after you become subject to this subpart.

(3) If you are required to submit an Initial Notification but are otherwise not affected by the requirements of this subpart, in accordance with § 63.9290(c), your notification should include the information in § 63.9(b)(2)(i) through (v) and a statement that your new or reconstructed engine test cell/stand has no additional requirements, explaining the basis of the exclusion (for example, that the test cell/stand is used exclusively for testing internal combustion engines with a rated power of less than 25 hp (19kW)).

(c) If you are required to comply with an emission limitation in Table 1 of this subpart, you must submit a Notification of Compliance Status according to § 63.9(h)(2)(ii). For each initial compliance demonstration with an emission limitation, you must submit the Notification of Compliance Status before the close of business on the 30th calendar day following the completion of the initial compliance demonstration.

(d) You must submit a notification of performance evaluation of your CEMS at least 60 calendar days before the performance evaluation is scheduled to begin as required in § 63.8(e)(2).

§ 63.9350 What reports must I submit and when?

(a) If you own or operate a new or reconstructed engine test cell/stand which must meet an emission limitation, you must submit a semiannual compliance report according to Table 5 of this subpart by the applicable dates specified in paragraphs (a)(1) through (5) of this section, unless the Administrator has approved a different schedule.

(1) The first semiannual compliance report must cover the period beginning on the compliance date specified in § 63.9295 and ending on June 30 or December 31, whichever date is the first date following the end of the first calendar half after the compliance date specified in § 63.9295.

(2) The first semiannual compliance report must be postmarked or delivered no later than July 31 or January 31, whichever date follows the end of the first calendar half after the compliance date that is specified in § 63.9295.

(3) Each subsequent semiannual compliance report must cover the semiannual reporting period from January 1 through June 30 or the semiannual reporting period from July 1 through December 31.

(4) Each subsequent semiannual compliance report must be postmarked or delivered no later than July 31 or January 31, whichever date is the first date following the end of the semiannual reporting period.

(5) For each new or reconstructed engine test cell/stand that is subject to permitting regulations pursuant to 40 CFR part 70 or part 71, and if the permitting authority has established the date for submitting semiannual reports pursuant to 40 CFR 70.6(a)(3)(iii)(A) or 40 CFR 71.6(a)(3)(iii)(A), you may submit the first and subsequent compliance reports according to the dates the permitting authority has established instead of according to the dates in paragraphs (a)(1) through (4) of this section.

(b) If there is no deviation from the applicable emission limitation and the CEMS was not out-of-control, according to § 63.8(c)(7), the semiannual compliance report must contain the information described in paragraphs (b)(1) through (4) of this section.

(1) Company name and address.

(2) Statement by a responsible official, with that official's name, title, and signature, certifying the truth, accuracy, and completeness of the content of the report.

(3) Date of report and beginning and ending dates of the reporting period.

(4) A statement that no deviation from the applicable emission limitation occurred during the reporting period and that no CEMS was out-of-control, according to § 63.8(c)(7).

(c) For each deviation from an emission limitation, the semiannual compliance report must include the information in paragraphs (b)(1) through (3) of this section and the information included in paragraphs (c)(1) through (4) of this section.

(1) The date and time that each deviation started and stopped.

(2) The total operating time of each new or reconstructed engine test cell/stand during the reporting period.

(3) A summary of the total duration of the deviation during the reporting period (recorded in 4-hour periods), and the total duration as a percent of the total operating time during that reporting period.

(4) A breakdown of the total duration of the deviations during the reporting period into those that are due to control equipment problems, process problems, other known causes, and other unknown causes.

(d) For each CEMS deviation, the semiannual compliance report must include the information in paragraphs (b)(1) through (3) of this section and the information included in paragraphs (d)(1) through (7) of this section.

(1) The date and time that each CEMS was inoperative except for zero (low-level) and high-level checks.

(2) The date and time that each CEMS was out-of-control, including the information in § 63.8(c)(8).

(3) A summary of the total duration of CEMS downtime during the reporting period (reported in 4-hour periods), and the total duration of CEMS downtime as a percent of the total engine test cell/stand operating time during that reporting period.

(4) A breakdown of the total duration of CEMS downtime during the reporting period into periods that are due to monitoring equipment malfunctions, non-monitoring equipment malfunctions, quality assurance/quality control calibrations, other known causes and other unknown causes.

(5) The monitoring equipment manufacturer(s) and model number(s) of each monitor.

(6) The date of the latest CEMS certification or audit.

(7) A description of any changes in CEMS or controls since the last reporting period.

§ 63.9355 What records must I keep?

(a) You must keep the records as described in paragraphs (a)(1) through (4) of this section.

(1) A copy of each notification and report that you submitted to comply with this subpart, including all documentation supporting any Initial Notification or Notification of Compliance Status that you submitted, as required in § 63.10(b)(2)(xiv).

(2) Records of performance evaluations as required in § 63.10(b)(2)(viii).

(3) Records of the occurrence and duration of each malfunction of the air pollution control equipment, if applicable, as required in § 63.10(b)(2)(ii).

(4) Records of all maintenance on the air pollution control equipment, if applicable, as required in § 63.10(b)(iii).

(b) For each CEMS, you must keep the records as described in paragraphs (b)(1) through (3) of this section.

(1) Records described in § 63.10(b)(2)(vi) through (xi).

(2) Previous (i.e., superceded) versions of the performance evaluation plan as required in § 63.8(d)(3).

(3) Request for alternatives to the relative accuracy test for CEMS as required in § 63.8(f)(6)(i), if applicable.

(c) You must keep the records required in Table 4 of this subpart to show continuous compliance with each emission limitation that applies to you.

§ 63.9360 In what form and how long must I keep my records?

(a) You must maintain all applicable records in such a manner that they can be readily accessed and are suitable for inspection according to § 63.10(b)(1).

(b) As specified in § 63.10(b)(1), you must keep each record for 5 years following the date of each occurrence, measurement, maintenance, corrective action, report, or record.

(c) You must retain your records of the most recent 2 years on site, or your records must be accessible on site. Your records of the remaining 3 years may be retained off site.

Other Requirements and Information

§ 63.9365 What parts of the General Provisions apply to me?

Table 6 of this subpart shows which parts of the General Provisions in §§ 63.1 through 63.13 apply to you.

§ 63.9370 Who implements and enforces this subpart?

(a) This subpart can be implemented and enforced by us, the U.S. EPA, or a delegated authority such as your State, local, or tribal agency. If the U.S. EPA Administrator has delegated authority to your State, local, or tribal agency, then that agency, in addition to the U.S. EPA, has the authority to implement and enforce this subpart. You should contact your U.S. EPA Regional Office to find out if implementation and enforcement of this subpart is delegated to your State, local, or tribal agency.

(b) In delegating implementation and enforcement authority of this subpart to a State, local, or tribal agency under section 40 CFR part 63, subpart E, the authorities contained in paragraph (c) of this section are retained by the Administrator of U.S. EPA and are not transferred to the State, local, or tribal agency.

(c) The authorities that cannot be delegated to State, local, or tribal agencies are as follows.

(1) Approval of alternatives to the emission limitations in § 63.9300 under § 63.6(g).

(2) Approval of major changes to test methods under § 63.7(e)(2)(ii) and (f) and as defined in § 63.90.

(3) Approval of major changes to monitoring under § 63.8(f) and as defined in § 63.90.

(4) Approval of major changes to recordkeeping and reporting under § 63.10(f) and as defined in § 63.90.

§ 63.9375 What definitions apply to this subpart?

Terms used in this subpart are defined in the Clean Air Act (CAA); in 40 CFR 63.2, the General Provisions of this part; and in this section:

CAA means the Clean Air Act (42 U.S.C. 7401 et seq., as amended by Public Law 101-549, 104 Statute 2399).

Area source means any stationary source of HAP that is not a major source as defined in this subpart.

Combustion turbine engine means a device in which air is compressed in a compressor, enters a combustion chamber, and is compressed further by the combustion of fuel injected into the combustion chamber. The hot compressed combustion gases then expand over a series of curved vanes or blades arranged on a central spindle which rotates.

Deviation means any instance in which an affected source subject to this subpart, or an owner or operator of such a source:

(1) Fails to meet any requirement or obligation established by this subpart, including but not limited to any emission limitation;

(2) Fails to meet any term or condition that is adopted to implement an applicable requirement in this subpart and that is included in the operating permit for any affected source required to obtain such a permit; or

(3) Fails to meet any emission limitation in this subpart during malfunction, regardless or whether or not such failure is permitted by this subpart.

Engine means any internal combustion engine, any combustion turbine engine, or any rocket engine.

Engine test cell/stand means any apparatus used for testing uninstalled stationary or uninstalled mobile (motive) engines.

Hazardous air pollutants (HAP) means any air pollutant listed in or pursuant to section 112(b) of the CAA.

Internal combustion engine means a device in which air enters a combustion chamber, is mixed with fuel, compressed in the chamber, and combusted. Fuel may enter the combustion chamber with the air or be injected into the combustion chamber. Expansion of the hot combustion gases in the chamber rotates a shaft, either through a reciprocating or rotary action. For purposes of this subpart, this definition does not include combustion turbine engines.

Major source, as used in this subpart, shall have the same meaning as in § 63.2.

Malfunction means any sudden, infrequent, and not reasonably preventable failure of air pollution control equipment, process equipment, or a process to operate in a normal or usual manner. Failures that are caused in part by poor maintenance or careless operation are not malfunctions.

Rated power means the maximum power output of an engine in use.

Potential to emit means the maximum capacity of a stationary source to emit a pollutant under its physical and operational design. Any physical or operational limitation on the capacity of the stationary source to emit a pollutant, including air pollution control equipment and restrictions on hours of operation or on the type or amount of material combusted, stored, or processed, shall be treated as part of its design if the limitation or the effect it would have on emissions is federally enforceable.

Responsible official means responsible official as defined by 40 CFR 70.2.

Rocket engine means a device consisting of a combustion chamber in which materials referred to as propellants, which provide both the fuel and the oxygen for combustion, are burned. Combustion gases escape through a nozzle, providing thrust.

Tables to Subpart PPPPP of Part 63

Table 1 to Subpart PPPPP of Part 63.—Emission Limitations
[As stated in § 63.9300, you must comply with the following emission limitations]
For each new or reconstructed engine test cell/stand located at a major source which is used in whole or in part for testing * * * | You must meet one of the following emission limitations:
1. Internal combustion engines with a rated power of 25 hp (19 kW) or more | a. Limit the concentration of CO to 5 ppmvd or less (corrected to 15 percent O2 content); OR
| b. Achieve a reduction in CO of 99.9 percent or more between the inlet and outlet concentrations of CO (corrected to 15 percent O2 content) of the emission control device.

Table 2 to Subpart PPPPP of Part 63.—Requirements for Initial Compliance Demonstrations
[As stated in § 63.9310, you must comply with the following emission limitations]
For each engine test cell/stand complying with * * * | You must * * * | Using * * * | According to the following requirements***
1. The CO concentration emissions limitation | Demonstrate CO emissions are 5 ppmvd or less | A CEMS for CO and O2 at the outlet of the engine test cell/stand or emission control device | This demonstration is conducted immediately following a successful performance evaluation of the CEMS as required in § 63.9325(c). The demonstration consists of the first 4-hour rolling average of measurements. The CO concentration must be corrected to 15 percent O2content, dry basis using Equation 1 of § 63.9320.
2. The CO percent reduction emission limitation | Demonstrate a reduction in CO of 99.9 percent or more | A CEMS for CO and O2 at both the inlet and outlet of the emission control device | This demonstration is conducted immediately following a successful performance evaluation of the CEMS as required in § 63.9325(c). The demonstration consists of the first 4-hour rolling average of measurements. The inlet and outlet CO concentrations must be corrected to 15 percent O2 content using Equation 1 of § 63.9320. The reduction in CO is calculated using Equation 2 of § 63.9320.

Table 3 to Subpart PPPPP of Part 63.—Initial Compliance With Emission Limitations
[As stated in § 63.9330, you must comply with the following emission limitations]
For the * * * | You have demonstrated initial compliance if * * *
1. CO concentration emission limitation | The first 4-hour rolling average CO concentration is 5 ppmvd or less, corrected to 15 percent O2 content.
2. CO percent reduction emission limitation | The first 4-hour rolling average reduction in CO is 99.9 percent or more, dry basis, corrected to 15 percent O2 content.

Table 4 to Subpart PPPPP of Part 63.—Continuous Compliance With Emission Limitations
[As stated in § 63.9340, you must comply with the following emission limitations]
For the * *y* | You must demonstrate continuous compliance by * * *
1. CO concentration emission limitation | a. Collecting the CEMS data according to § 63.9325(a), reducing the measurements to 1-hour averages, correcting them to 15 percent O2 content, dry basis, according to § 63.9320;
| and
| b. Demonstrating CO emissions are 5 ppmvd or less over each 4-hour rolling averaging period.
2. CO percent reduction emission limitation | a. Collecting the CEMS data according to § 63.9325(b), reducing the measurements to 1-hour averages, correcting them to 15 percent O2 content, dry basis, calculating the CO percent reduction according to § 63.9320;
| and
| b. Demonstrating a reduction in CO of 99.9 percent or more over each 4-hour rolling averaging period.

Table 5 to Subpart PPPPP of Part 63.—Requirements for Reports
[As stated in § 63.9350, you must comply with the following emission limitations]
If you own or operate an engine test cell/stand which must comply with emission limitations, you must submit a * * * | The report must contain * * * | You must submit the report * * *
1. Compliance report | a. If there are no deviations from the emission limitations that apply to you, a statement that there were no deviations from the emission limitations during the reporting period; | i. Semi-annually, according to the requirements in § 63.9350.
| or
| b. If there were no periods during which the CEMS was out-of-control as specified in § 63.8(c)(7), a statement that there were no periods during which the the CEMS was out-of-control during the reporting period; | i. Semi-annually, according to the requirements in § 63.9350.
| or
| c. If you have a deviation from any emission limitation during the reporting period, the report must contain the information in § 63.9350(c); | i. Semi-annually, according to the requirements in § 63.9350.
| or
| d. If there were periods during which the CEMS was out-of-control, as specified in § 63.8(c)(7), the report must contain the information in § 63.9350(d). | i. Semi-annually, according to the requirements in § 63.9350.

Table 6 to Subpart PPPPP of Part 63.—Applicability of General Provisions to Subpart PPPPP of Part 63
[As stated in § 63.9365, you must comply with the following emission limitations]
Citation | Subject | Brief description | Applies to subpart PPPPP of part 63
§ 63.1(a)(1) | Applicability | General applicability of the General Provisions | Yes. Additional terms defined in § 63.9375.
§ 63.1(a)(2)-(4) | Applicability | Applicability of source categories | Yes.
§ 63.1(a)(5) | [Reserved]
§ 63.1(a)(6)-(7) | Applicability | Contact for source category information; extension of compliance through early reduction | Yes.
§ 63.1(a)(8) | Applicability | Establishment of State rules or programs | No.
§ 63.1(a)(9) | [Reserved]
§ 63.1(a)(10)-(14) | Applicability | Explanation of time periods, postmark deadlines | Yes.
§ 63.1(b)(1) | Applicability | Initial applicability | Yes. Subpart PPPPP clarifies applicability at § 63.9285.
§ 63.1(b)(2) | Applicability | Title V operating permit—reference to part 70 | Yes. All major affected sources are required to obtain a title V permit.
§ 63.1(b)(3) | Applicability | Record of applicability determination | Yes.
§ 63.1(c)(1) | Applicability | Applicability after standards are set | Yes. Subpart PPPPP clarifies the applicability of each paragraph of subpart A to sources subject to subpart PPPPP.
§ 63.1(c)(2) | Applicability | Title V permit requirement for area sources | No. Area sources are not subject to subpart PPPPP.
§ 63.1(c)(3) | [Reserved]
§ 63.1(c)(4) | Applicability | Extension of compliance for existing sources | No. Existing sources are not covered by the substantive control requirements of subpart PPPPP.
§ 63.1(c)(5) | Applicability | Notification requirements for an area source becoming a major source | Yes.
§ 63.1(d) | [Reserved]
§ 63.1(e) | Applicability | Applicability of permit program before a relevant standard has been set | Yes.
§ 63.2 | Definitions | Definitions for part 63 standards | Yes. Additional definitions are specified in § 63.9375.
§ 63.3 | Units and Abbreviations | Units and abbreviations for part 63 standards | Yes.
§ 63.4 | Prohibited Activities | Prohibited activities; compliance date; circumvention, severability | Yes.
§ 63.5(a) | Construction/Reconstruction | Construction and reconstruction—applicability | Yes.
§ 63.5(b)(1) | Construction/Reconstruction | Requirements upon construction or reconstruction | Yes.
§ 63.5(b)(2) | [Reserved]
§ 63.5(b)(3) | Construction/Reconstruction | Approval of construction | Yes.
§ 63.5(b)(4) | Construction/Reconstruction | Notification of construction | Yes.
§ 63.5(b)(5) | Construction/Reconstruction | Compliance | Yes.
§ 63.5(b)(6) | Construction/Reconstruction | Addition of equipment | Yes.
§ 63.5(c) | [Reserved]
§ 63.5(d) | Construction/Reconstruction | Application for construction reconstruction | Yes.
§ 63.5(e) | Construction/Reconstruction | Approval of construction or reconstruction | Yes.
§ 63.5(f) | Construction/Reconstruction | Approval of construction or reconstruction based on prior State review | Yes.
§ 63.6(a) | Applicability | Applicability of standards and monitoring requirements | Yes.
§ 63.6(b)(1)-(2) | Compliance dates for new and reconstructed sources | Standards apply at effective date; 3 years after effective date; upon startup; 10 years after construction or reconstruction commences for CAA section 112(f) | Yes.
§ 63.6(b)(3) | Compliance dates for new and reconstructed sources |  | No.
§ 63.6(b)(4) | Compliance dates for new and reconstructed sources | Compliance dates for sources also subject to CAA section 112(f) standards | Yes.
§ 63.6(b)(5) | Compliance dates for new and reconstructed sources | Notification | Yes.
§ 63.6(b)(6) | [Reserved]
§ 63.6(b)(7) | Compliance dates for new and reconstructed sources | Compliance dates for new and reconstructed area sources that become major | Yes.
§ 63.6(c)(1)-(2) | Compliance dates for existing sources | Effective date establishes compliance date | No. Existing sources are not covered by the substantive control requirements of subpart PPPPP.
§ 63.6(c)(3)-(4) | [Reserved]
§ 63.6(c)(5) | Compliance dates for existing sources | Compliance dates for existing area sources that become major | Yes. If the area source becomes a major source by addition or reconstruction, the added or reconstructed portion will be subject to subpart PPPPP.
§ 63.6(d) | [Reserved]
§ 63.6(e)(1)-(2) | Operation and maintenance requirements | Operation and maintenance | Yes; except that you are not required to have a startup, shutdown, and malfunction plan (SSMP).
§ 63.6(e)(3) | SSMP | (1) Requirement for startup, shutdown, or malfunction and SSMP | No. Subpart PPPPP does not require a SSMP.
|  | (2) Content of SSMP
§ 63.6(f)(1) | Compliance except during startup, shutdown, or malfunction |  | No. You must comply with emission standards at all times, including startup, shutdown, and malfunction.
§ 63.6(f) (2)-(3) | Methods for Determining Compliance | Compliance based on performance test, operation and maintenance plans, records, inspection | Yes.
§ 63.6(g) (1)-(3) | Alternative Standard | Procedures for getting an alternative standard | Yes.
§ 63.6(h) | Opacity/Visible Emission (VE) Standards | Requirements for opacity/VE Standards | No. Subpart PPPPP does not establish opacity/VE standards and does not require continuous opacity monitoring systems (COMS).
§ 63.6(i) (1)-(14) | Compliance Extension | Procedures and criteria for Administrator to grant compliance extension | No. Compliance extension provisions apply to existing sources, which do not have emission limitations in subpart PPPPP.
§ 63.6(j) | Presidential Compliance Exemption | President may exempt source category from requirement to comply with rule | Yes.
§ 63.7(a) (1)-(2) | Performance Test Dates | Dates for conducting initial performance testing and other compliance demonstrations; must conduct within 180 days after first subject to rule | No. Subpart PPPPP does not require performance testing.
§ 63.7(a)(3) | Section 114 Authority | Administrator may require a performance test under CAA section 114 at any time | Yes.
§ 63.7(b)(1) | Notification of Performance Test |  | No.
§ 63.7(b)(2) | Notification No. of Rescheduling |  | No.
§ 63.7(c) | Quality Assurance/Test Plan |  | No.
§ 63.7(d) | Testing Facilities |  | No.
§ 63.7(e)(1) | Conditions FOR Conducting Performance Tests |  | No.
§ 63.7(e)(2) | Conditions for Conducting Performance Tests |  | No.
§ 63.7(e)(3) | Test Run Duration |  | No.
§ 63.7(e)(4) | Other Performance Testing | Administrator may require other testing under CAA section 114 | Yes.
§ 63.7(f) | Alternative Test Method |  | No.
§ 63.7(g) | Performance No. Test Data Analysis |  | No.
§ 63.7(h) | Waiver of Tests |  | No.
§ 63.8(a)(1) | Applicability of Monitoring Requirements | Subject to all monitoring requirements in standard | Yes. Subpart PPPPP contains specific requirements for monitoring at § 63.9325.
§ 63.8(a)(2) | Performance Specifications. | Performance Specifications in appendix B of 40 CRF part 60 apply | Yes.
§ 63.8(a)(3) | [Reserved]
§ 63.8(a)(4) | Monitoring with Flares |  | No. Subpart PPPPP does not have monitoring requirements for flares.
§ 63.8(b)(1) | Monitoring | Must conduct monitoring according to standard unless Administrator approves alternative | Yes.
§ 63.8(b) (2)-(3) | Multiple Effluents and Multiple Monitoring Systems | (1) Specific requirements for installing monitoring systems | Yes.
|  | (2) Must install on each effluent before it is combined and before it is released to the atmosphere unless Administrator approves otherwise
|  | (3) If more than one monitoring system on an emission point, must report all monitoring system results, unless one monitoring system is a backup
§ 63.8(c)(1) | Monitoring System Operation and Maintenance | Maintain monitoring system in a manner consistent with good air pollution control practices | Yes.
§ 63.8(c)(1)(i) | Routine and Predictable Startup, Shutdown, or Malfunction |  | No.
§ 63.8(c)(1)(ii) | Startup, Shutdown, or Malfunction not in SSMP |  | No.
§ 63.8(c)(1)(iii) | Compliance with Operation and Maintenance Requirements | (1) Determination by Administrator whether source is complying with operation and maintenance requirements | Yes.
|  | (2) Review of source operation and maintenance procedures, records, manufacturer's instructions, recommendations and inspection
63.8(c) (2)-(3) | Monitoring System Installation | (1) Must install to get representative emission of parameter measurements | Yes.
|  | (2) Must verify operational status before or at performance test
§ 63.8(c)(4) | Continuous Monitoring System (CMS) requirements |  | No. Follow specific Requirements in § 63.9335(a) and (b).
§ 63.8(c)(5) | COMS Minimum Procedures |  | No.
§ 63.8(c) (6)-(8) | CMS Requirements | (1) Zero and high level calibration check requirements (2) Out-of-control periods. | Yes; except that subpart PPPPP does not require COMS.
§ 63.8(d) | CMS Quality Control | (1) Requirements for CMS quality control, including calibration, etc | Yes.
|  | (2) Must keep quality control plan on record for 5 years; keep old versions for 5 years after revisions
§ 63.8(e) | CMS Performance Evaluation | Notification, performance evaluation test plan, reports | Yes; except for § 63.8(e)(5)(ii), which applies to COMS.
§ 63.8(f) (1)-(5) | Alternative Monitoring Method | Procedures for Administrator to approve alternative monitoring | Yes.
§ 63.8(f)(6) | Alternative to Relative Accuracy Test | Procedures for Administrator to approve alternative relative accuracy tests for CEMS | Yes.
§ 63.8(g) | Data Reduction | (1) COMS 6-minute averages calculated over at least 36 evenly spaced data points | Yes; except that provisions for COMS are not applicable
|  | (2) CEMS 1-hour averages computed over at least 4 equally spaced data points | Averaging periods for demonstrating compliance are specified at § 63.9340
§ 63.8(g)(5) | Data Reduction | Data that cannot be used in computing averages for CEMS and COMS | No. Specific language is located at § 63.9335(a).
§ 63.9(a) | Notification Requirements | Applicability and state delegation | Yes.
§ 63.9(b)(1)-(5) | Initial Notifications | (1) Submit notification 120 days after effective date; | Yes.
|  | (2) Notification of intent to construct/reconstruct; Notification of commencement of construct/reconstruct; Notification of startup;
|  | (3) Contents of each
§ 63.9(c) | Request for Compliance Extension |  | No.
§ 63.9(d) | Notification of Special Compliance Requirements for New Source | For sources that commence construction between proposal and promulgation and want to comply 3 years after effective date | Yes.
§ 63.9(e) | Notification of Performance Test |  | No.
§ 63.9(f) | Notification of Opacity/VE Test |  | No.
§ 63.9(g)(1) | Additional Notifications When Using CMS | Notification of performance evaluation | Yes.
§ 63.9(g)(2) | Additional Notifications When Using CMS |  | No.
§ 63.9(g)(3) | Additional Notifications When Using CMS | Notification that exceeded criterion for relative accuracy | Yes. If alternative is in use.
§ 63.9(h)(1)-(6) | Notification of Compliance Status | (1) Contents | Yes.
|  | (2) Due 60 days after end of performance test or other compliance demonstration, except for opacity/VE, which are due after 30 days
|  | (3) When to submit to Federal vs. State authority
§ 63.9(i) | Adjustment of Submittal Deadlines | Procedures for Administrator to approve change in when notifications must be submitted | Yes.
§ 63.9(j) | Change in Previous Information | Must submit within 15 days after the change | Yes.
§ 63.10(a) | Recordkeeping/Reporting | (1) Applies to all, unless compliance extension | Yes.
|  | (2) When to submit to Federal vs. State authority
|  | (3) Procedures for owners of more than one source
§ 63.10(b)(1) | Recordkeeping/Reporting | (1) General requirements | Yes.
|  | (2) Keep all records readily available
|  | (3) Keep for 5 years
§ 63.10(b)(2)(i)-(v) | Records related to Startup, Shutdown, or Malfunction |  | No.
§ 63.10(b)(2)(vi)-(xi) | CMS Records | Malfunctions, inoperative, out-of-control | Yes.
§ 63.10(b)(2)(xii) | Records | Records when under waiver | Yes.
§ 63.10(b)(2)(xiii) | Records | Records when using alternative to relative accuracy test | Yes.
§ 63.10(b)(2)(xiv) | Records | All documentation supporting initial notification and notification of compliance status | Yes.
§ 63.10(b)(3) | Records | Applicability Determinations | Yes.
§ 63.10(c)(1)-(6), (9)-(15) | Records | Additional records for CEMS | Yes.
§ 63.10(c) (7)-(8) | Records | Records of excess emissions and parameter monitoring exceedances for CMS. | No. Specific language is located at § 63.9355.
§ 63.10(d)(1) | General Reporting Requirements | Requirement to report | Yes.
§ 63.10(d)(2) | Report of Performance Test Results | When to submit to Federal or State authority | Yes.
§ 63.10(d)(3) | Reporting Opacity or VE Observations |  | No.
§ 63.10(d)(4) | Progress Reports |  | No.
§ 63.10(d)(5) | Startup, Shutdown, or Malfunction Reports |  | No.
§ 63.10(e)(1) and (2)(i) | Additional CMS Reports | Additional CMS reports | Yes.
§ 63.10(e)(2)(ii) | Additional CMS Reports |  | No.
§ 63.10(e)(3) | Additional CMS Reports | Excess emissions and parameter exceedances report | No. Specific language is located in § 63.9350.
§ 63.10(e)(4) | Additional CMS Reports |  | No.
§ 63.10(f) | Waiver for Recordkeeping/Reporting | Procedures for Administrator to waive | Yes.
§ 63.11 | Control Device Requirements |  | No.
§ 63.12 | State Authority and Delegations | State authority to enforce standards | Yes.
§ 63.13 | Addresses of State Air Pollution Control Offices and EPA Regional Offices | Addresses where reports, notifications, and requests are send | Yes.
§ 63.14 | Incorporation by reference | Test methods incorporated by reference | Yes.
§ 63.15 | Availability of information and confidentiality | Public and confidential information | Yes.

[FR Doc. 02-11296 Filed 5-13-02; 8:45 am]

BILLING CODE 6560-50-P